DEPARTMENT OF THE INTERIOR

Bureau of Indian Affairs

[245A2100DD/AAKC001030/A0A501010.999900]

Indian Child Welfare Act; Designated Tribal Agents for Service of Notice

AGENCY: Bureau of Indians Affairs, Interior.

ACTION: Notice.

SUMMARY: The regulations implementing the Indian Child Welfare Act provide that Federally recognized Indian Tribes may designate an agent other than the Tribal chairman for service of notice of proceedings under the Act. This notice includes the current list of designated Tribal agents for service of notice.

DATES: The notice is effective February 28, 2024 and supersedes the list published on March 22, 2023.

FOR FURTHER INFORMATION CONTACT: Bureau of Indian Affairs, Evangeline M. Campbell, Chief, Division of Human Services, Office of Indian Services, 1849 C St. NW, Mail Stop 3645-MIB, Washington, DC 20240; evangeline.campbell@bia.gov; (202) 513-7621.

SUPPLEMENTARY INFORMATION: The regulations implementing the Indian Child Welfare Act, 25 U.S.C. 1901 et seq., provide that Federally recognized Indian Tribes may designate an agent other than the Tribal chairman for service of notice of proceedings under the Act. See 25 CFR 23.12. The Secretary of the Interior is required to update and publish in the Federal Register as necessary the names and addresses of the designated Tribal agents. This notice is published in exercise of authority delegated by the Secretary of the Interior to the Principal Deputy Assistant Secretary—Indian Affairs by 209 DM 8. This notice supersedes the list published in the Federal Register on March 22, 2023 (88 FR 17242).

BIA Regional Offices

In any involuntary proceeding in a State court where the court knows or has reason to know that an Indian child is involved, and where the identity and location of the child's parent or Indian custodian or Tribe is known, the party seeking the foster-care placement of, or termination of parental rights to, an Indian child must directly notify the parents, the Indian custodians, and the child's Tribe by registered or certified mail with return receipt requested, of the pending child-custody proceedings and their right of intervention. Copies of these notices must be sent to the appropriate Bureau of Indian Affairs (BIA) Regional Director by registered or certified mail with return receipt requested or by personal delivery. See 25 CFR 23.11. Notice may also be sent via personal service or electronically, but such alternative methods do not replace the requirement for notice to be sent by registered or certified mail with return receipt requested.

If the identity or location of the child's parents, the child's Indian custodian, or the Tribe(s) in which the Indian child is a member or eligible for membership cannot be ascertained, but there is reason to know the child is an Indian child, notice of the child-custody proceeding must be sent to the appropriate BIA Regional Director, available at https://www.bia.gov/regional-offices. See 25 CFR 23.111.

1. Alaska Region

2. Eastern Region

3. Eastern Oklahoma Region

4. Great Plains Region

5. Midwest Region

6. Navajo Region

7. Northwest Region

8. Pacific Region

9. Rocky Mountain Region

10. Southern Plains Region

11. Southwest Region

12. Western Region

BIA Central Office

No notices, except for final adoption decrees, are required to be sent to the BIA Central Office, MS-3645, 1849 C St. NW, Washington, DC 20240.

List of Designated Tribal Agents by BIA Region

This notice presents the names and addresses of current designated Tribal agents for service of notice and includes each designated Tribal agent received by the Secretary of the Interior prior to the date of this publication. The lists designated Tribal agents by BIA Region and alphabetically by Tribe within each BIA Region.

In addition to the BIA's annual Federal Register publication, the ICWA Designated Agent List will also be available on the Indian Affairs.gov website at https://www.bia.gov/bia/ois/dhs/icwa and will be updated every three months.

1. Alaska Region

Alaska Regional Director, Bureau of Indian Affairs, Attn: Human Services, 3601 C St., Ste. 1200, MC-403 Anchorage, Alaska 99503; Telephone: (907) 271-4111; Fax: (907) 271-4090.

Tribe | ICWA agent | Mailing address | Phone No. | Fax No. | Email address
Agdaagux Tribe of King Cove | Amanda McAdoo, Family Services Coordinator | 1131 E International Airport Rd., Anchorage, AK 99518 | (907) 276-2700 | (907) 222-9735 | amandam@apiai.org.
Akiachak Native Community | Serena Solesbee, ICWA Program Manager | P.O. Box 219, Bethel, AK 99559 | (907) 543-8691 | (907) 543-7644 | Ssolesbee@avcp.org.
Akiak Native Community | Olinka Jones, ICWA Director | P.O. Box 52127, Akiak, AK 99552 | (907) 765-7112 | (907) 765-7512 | Akiakicwadept@gmail.com.
Alatna Village | Valeen “Niisha” Walsh & Michelle Peter, Tribal Social Services Manager/ICWA Advocate | 122 First Ave., Suite 600, Fairbanks, AK 99701 | (907) 452-8251 | (907) 459-3984 | Valeen.walsh@tananachiefs.org.
Algaaciq Native Village (St. Mary's) | Denise Paukan, ICWA Coordinator | P.O. Box 48 St. Mary's, AK 99658 | (907) 438-2932 | (907) 438-2227 | algaaciq.icwa@gmail.com.
Allakaket Village | Valeen “Niisha” Walsh & Michelle Peter, Tribal Social Services Manager/ICWA Advocate | 122 First Ave., Suite 600, Fairbanks, AK 99701 | (907) 452-8251 | (907) 459-3984 | Valeen.walsh@tananachiefs.org.
Alutiiq Tribe of Old Harbor | Julie Kaiser, ICWA Coordinator | 3449 E Rezanof Dr., Kodiak, AK 99615 | (907) 486-1395 | (907) 486-1329 | Julie.Kaiser@kodiakhealthcare.org.
Angoon Community Association | Will Kronick, Family Services Administrator | P.O. Box 25500, Juneau, AK 99802 | (907) 463-7169 | (907) 885-0032 | wkronick@tlingitandhaida.gov.
Anvik Village | Valeen “Niisha” Walsh & Michelle Peter, Tribal Social Services Manager/ICWA Advocate | 122 First Ave., Suite 600, Fairbanks, AK 99701 | (907) 452-8251 | (907) 459-3984 | Valeen.walsh@tananachiefs.org.
Arctic Village | Tiffany Yatlin, ICWA Worker | P.O. Box 22069, Arctic Village, AK 99722 | (907) 587-5240 | (907) 587-5128 | wellnesstribalcourt22@gmail.com.
Asa'carsarmiut Tribe | Evelyn Darlene Peterson and Madeline Long, Social Service Directors | P.O. Box 32107, Mountain Village, AK 99632-0107 | (907) 591-2209 | (907) 591-2817 | atcicwa@asacarsarmiUT.org.
Beaver Village | Valeen “Niisha” Walsh & Michelle Peter, Tribal Social Services Manager/ICWA Advocate | 122 First Ave., Suite 600, Fairbanks, AK 99701-4899 | (907) 452-8251 | (907) 459-3984 | Valeen.walsh@tananachiefs.org.
Birch Creek Tribe | Valeen “Niisha” Walsh & Michelle Peter, Tribal Social Services Manager/ICWA Advocate | 122 First Ave., Suite 600, Fairbanks, AK 99701-4899 | (907) 452-8251 | (907) 459-3984 | Valeen.walsh@tananachiefs.org.
Central Council of the Tlingit & Haida Indian Tribes | Will Kronick, Family Services Administrator | P.O. Box 25500, Juneau, AK 99802-5500 | (907) 463-7169 | (907) 885-0032 | wkronick@tlingitandhaida.gov.
Chalkyitsik Village | Valeen “Niisha” Walsh & Michelle Peter, Tribal Social Services Manager/ICWA Advocate | 122 First Ave., Suite 600, Fairbanks, AK 99701-4899 | (907) 452-8251 | (907) 459-3984 | Valeen.walsh@tananachiefs.org.
Cheesh-Na Tribe | ICWA Worker | HC01 Box 217, Gakona, AK 99586 | (907) 822-3503 | (907) 822-5179
Chevak Native Village | Serena Solesbee, ICWA Program Manager | P.O. Box 219, Bethel, AK 99559 | (907) 543-8691 | (907) 543-7644 | icwa2@avcp.org.
Chickaloon Native Village | Vera Spence, ICWA Case Manager | P.O. Box 1105, Chickaloon, AK 99674-1105 | (907) 745-0794 | (907) 745-0750 | vmspence@chickaloon-nsn.gov.
Chignik Bay Tribal Council | Children's Services Division Manager | P.O. Box 310, Dillingham, AK 99576 | (907) 842-4139 | (907) 842-4106 | BBICWA@bbna.com.
Chignik Lake Village | Children's Services Division Manager | P.O. Box 310, Dillingham, AK 99576 | (907) 842-4139 | (907) 842-4106 | BBICWA@bbna.com.
Chilkat Indian Village (Klukwan) | Carrie-Ann Durr, ICWA Case Worker | HC 60 Box 2207, Haines, AK 99827 | (907) 767-5505 | (907) 767-5408 | cdurr@chilkat-nsn.gov.
Chilkoot Indian Association (Haines) | Will Kronick, Family Services Administrator | P.O. Box 25500, Juneau, AK 99802 | (907) 463-7169 | (907) 885-0032 | wkronick@tlingitandhaida.gov.
Chinik Eskimo Community (Golovin) | Heather Payenna, CFS Manager | P.O. Box 948, Nome, AK. 99762 | (907) 443-4261 | (907) 443-4601 | hpayenna@kawerak.org.
Chuloonawick Native Village | Lisa Redfox, Community Family Services Specialist | P.O. Box 245, Emmonak, AK 99581 | (907) 949-1345 | (907) 949-1346 | chuloonawickicwa@gmail.com.
Circle Native Community | Valeen “Niisha” Walsh & Michelle Peter, Tribal Social Services Manager/ICWA Advocate | 122 First Ave., Suite 600, Fairbanks, AK 99701 | (907) 452-8251 | (907) 459-3984 | Valeen.walsh@tananachiefs.org.
Craig Tribal Association | Will Kronick, Family Services Administrator | P.O. Box 25500, Juneau, AK 99802 | (907) 463-7169 | (907) 885-0032 | wkronick@tlingitandhaida.gov.
Curyung Tribal Council | Children's Services Division Manager | P.O. Box 310, Dillingham, AK 99576 | (907) 842-4139 | (907) 842-4106 | BBICWA@bbna.com.
Douglas Indian Association | Alyssa Cadiente-Laiti-Blattner, ICWA Social Services Program Coordinator | 1021 Glacier Ave., Juneau, AK 99801 | (907) 364-2916 | (907) 364-2917 | ablattner@diataku.com.
Egegik Village | Children's Services Division Manager | P.O. Box 310, Dillingham, AK 99576 | (907) 842-4139 | (907) 842-4106 | BBICWA@bbna.com.
Eklutna Native Village | Dawn Harris, ICWA Worker | P.O. Box 670666, Chugiak, AK 99567 | (907) 688-6020 | (907) 688-6021 | dharris@eklutna.org.
Emmonak Village | Serena Solesbee, ICWA Program Manager | P.O. Box 219, Bethel, AK 99559 | (907) 543-8691 | (907) 543-7644 | icwa2@avcp.org.
Evansville Village (aka Bettles Field) | Valeen “Niisha” Walsh & Michelle Peter, Tribal Social Services Manager/ICWA Advocate | 122 First Ave., Suite 600, Fairbanks, AK 99701 | (907) 452-8251 | (907) 459-3984 | Valeen.walsh@tananachiefs.org.
Gulkana Village Council | Rachel Stratton Morse, ICWA Worker | P.O. Box 254, Gakona, AK 99586 | (907) 822-5363 | (907) 822-3976 | icwa@gulkanacouncil.org.
Healy Lake Village | Valeen “Niisha” Walsh & Michelle Peter, Tribal Social Services Manager/ICWA Advocate | 122 First Ave., Suite 600, Fairbanks, AK 99701 | (907) 452-8251 | (907) 459-3984 | Valeen.walsh@tananachiefs.org.
Holy Cross Tribe | Valeen “Niisha” Walsh & Michelle Peter, Tribal Social Services Manager/ICWA Advocate | 122 First Ave., Suite 600, Fairbanks, AK 99701 | (907) 452-8251 | (907) 459-3984 | Valeen.walsh@tananachiefs.org.
Hoonah Indian Association | Akasha Moulton, Human Development Division Director | P.O. Box 602, Hoonah, AK 99829 | (907) 802-3195 | (907) 945-3140 | Akasha.Moulton@hiatribe.org.
Hughes Village | Valeen “Niisha” Walsh & Michelle Peter, Tribal Social Services Manager/ICWA Advocate | 122 First Ave., Suite 600, Fairbanks, AK 99701 | (907) 452-8251 | (907) 459-3984 | Valeen.walsh@tananachiefs.org.
Huslia Village | Valeen “Niisha” Walsh & Michelle Peter, Tribal Social Services Manager/ICWA Advocate | 122 First Ave., Suite 600, Fairbanks, AK 99701 | (907) 452-8251 | (907) 459-3984 | Valeen.walsh@tananachiefs.org.
Hydaburg Cooperative Association | Will Kronick, Family Services Administrator | P.O. Box 25500, Juneau, AK 99802 | (907) 463-7169 | (907) 885-0032 | wkronick@tlingitandhaida.gov.
Igiugig Village | Alicia Tinney, ICWA Worker | P.O. Box 4008, Igiugig, AK 99613 | (907) 533-3211 | (907) 533-3217 | socialservices@igiugig.gov.
Inupiat Community of the Arctic Slope | Nicole Watson, Social Services Manager | P.O. Box 934, Barrow, AK 99723 | (907) 852-4146 |  | Nicole.Watson@icas-nsn.gov.
Iqugmiut Traditional Council | Serena Solesbee, ICWA Program Manager | P.O. Box 219, Bethel, AK 99559 | (907) 543-8691 | (907) 543-7644 | SSolesbee@avcp.org.
Ivanof Bay Tribe | Children's Services Division Manager | P.O. Box 310, Dillingham, AK 99576 | (907) 842-4139 | (907) 842-4106 | BBICWA@bbna.com.
Kaguyak Village | Alyssa Brenteson, Tribal Manager | P.O. Box 5078, Akhiok, AK 99615 | (907) 836-2231 |  | kaguyak.tribal.council@gmail.com.
Kaktovik Village (aka Barter Island) | Crystalynn Tulai & Charlie Kignak, ICWA | P.O. Box 1232, Utqiagvik, AK 99723 | (907) 852-9182 | (907) 852-9396 | Crystalynn.Tulai@arcticslope.org.
Kasigluk Traditional Elders Council | Lena Keene, ICWA Worker | P.O. Box 19, Kasigluk, AK 99609 | (907) 477-6418 | (907) 477-6212 | kasigluktribalicwa@gmail.com.
Kenaitze Indian Tribe | Maria Guerra, Social Services Director | P.O. Box 988, Kenai, AK 99611 | (907) 335-7613 | (907) 202-8359 | familyservicesdepartment@kenaitze.org.
Ketchikan Indian Community | Douglas J. Gass, Case Management Supervisor | 201 Deermount St., Ketchikan, AK 99901 | (907) 228-9327 | (800) 378-0469 | dgass@kictribe.org.
King Island Native Community | Heather Payenna, CFS Manager | P.O. Box 948, Nome, AK 99762 | (907) 443-4261 | (907) 443-4601 | hpayenna@kawerak.org.
King Salmon Tribe | Children's Services Division Manager | P.O. Box 310, Dillingham, AK 99576 | (907) 842-4139 | (907) 842-4106 | BBICWA@bbna.com.
Klawock Cooperative Association | Will Kronick, Family Services Administrator | P.O. Box 25500, Juneau, AK 99802 | (907) 463-7168 | (907) 885-0032 | wkronick@tlingitandhaida.gov.
Knik Tribe | Geraldine Nicoli-Ayonayon, ICWA Manager | P.O. Box 871565, Wasilla, AK 99687 | (907) 373-7938 | (907) 373-2153 | gnayonayon@kniktribe.org.
Kokhanok Village | Mary Andrew, ICWA Worker | P.O. Box 1007, Kokhanok, AK 99606 | (907) 282-2224 | (907) 282-2264 | icwa@kokhanOK.com.
Koyukuk Native Village | Valeen “Niisha” Walsh & Michelle Peter, Tribal Social Services Manager/ICWA Advocate | 122 First Ave., Suite 600, Fairbanks, AK 99701 | (907) 452-8251 | (907) 459-3984 | Valeen.walsh@tananachiefs.org.
Levelock Village | Children's Services Division Manager | P.O. Box 310, Dillingham, AK 99576 | (907) 842-4139 | (907) 842-4106 | BBICWA@bbna.com.
Louden Tribe (previously listed as Galena Village (aka Louden Village) | Brooke Sanderson, Tribal Administrator | P.O. Box 244, Galena, AK 99741 | (907) 656-1711 | (907) 656-2491 | brooke.sanderson@loudentribe.com.
Lime Village | Serena Solesbee, ICWA Program Manager | P.O. Box 219, Bethel, AK 99559 | (907) 543-8691 | (907) 543-7644 | icwa2@avcp.org.
Manley Hot Springs Village | Valeen “Niisha” Walsh & Michelle Peter, Tribal Social Services Manager/ICWA Advocate | 122 First Ave., Suite 600, Fairbanks, AK 99701 | (907) 452-8251 | (907) 459-3984 | Valeen.walsh@tananachiefs.org.
Manokotak Village | Children's Services Division Manager | P.O. Box 310, Dillingham, AK 99576 | (907) 842-4139 | (907) 842-4106 | BBICWA@bbna.com.
McGrath Native Village | Valeen “Niisha” Walsh & Michelle Peter, Tribal Social Services Manager/ICWA Advocate | 122 First Ave., Suite 600, Fairbanks, AK 99701 | (907) 452-8251 | (907) 459-3984 | Valeen.walsh@tananachiefs.org.
Mentasta Traditional Council | Anita Andrews, Tribal Administrator | P.O. Box 6019, Mentasta Lake, AK 99780 | (907) 291-2319 | (907) 291-2305 | 907mlv99780ta@gmail.com.
Metlakatla Indian Community, Annette Island Reserve | Jacqueline Wilson, ICWA Social Worker, Social Services Director | P.O. Box 8, Metlakatla, AK 99926 | (907) 886-6914 | (907) 886-6913 | jwilson@metlakatla.com.
Naknek Native Village | Children's Services Division Manager | P.O. Box 310, Dillingham, AK 99576 | (907) 842-4139 | (907) 842-4106 | bbicwa@bbna.com.
Native Village of Afognak | Denise Malutin, ICWA Program Manager | 115 Mill Bay Rd., Kodiak, AK 99615 | (907) 486-6357 | (907) 486-6529 | denise@afognak.org.
Native Village of Akhiok | Julie Kaiser or Amanda Holden, ICWA Coordinator/ICWA Specialist | 3449 E Rezanof Dr., Kodiak, AK 99615 | (907) 486-1395 | (907) 486-1329 | Julie.kaiser@kodiakhealthcare.org.
Native Village of Akutan | Amanda McAdoo, Family Services Coordinator | 1131 E International Airport Rd., Anchorage, AK 99518 | (907) 276-2700 | (907) 222-9735 | amandam@apiai.org.
Native Village of Aleknagik | Children's Services Division Manager | P.O. Box 310, Dillingham, AK 99576 | (907) 842-4139 | (907) 842-4106 | BBICWA@bbna.com.
Native Village of Ambler | Jackie Hill, Director | P.O. Box 256, Kotzebue, AK 99752 | (907) 442-7879 | (907) 442-7885 | jackie.hill@maniilaq.org.
Native Village of Atka | Amanda McAdoo, Family Services Coordinator | 1131 E International Airport Rd., Anchorage, AK 99518 | (907) 276-2700 | (907) 222-9735 | amandam@apiai.org.
Native Village of Atqasuk | Crystalynn Tulai & Charlie Kignak, ICWA | P.O. Box 1232, Utqiagvik, AK 99723 | (907) 852-9182 | (907) 852-9396 | Crystalynn.Tulai@arcticslope.org.
Native Village of Barrow Inupiat Traditional Government | Fannie Suvlu, Executive Director | P.O. Box 1130, Utqiagvik, AK 99723 | (907) 852-8915 | (907) 852-4413 | Fannie.Suvlu@nvb-nsn.gov.
Native Village of Belkofski | Amanda McAdoo, Family Services Coordinator | 1131 E International Airport Rd., Anchorage, AK 99518 | (907) 276-2700 | (907) 222-9735 | amandam@apiai.org.
Native Village of Brevig Mission | Heather Payenna, CFS Manager | P.O. Box 948, Nome, AK 99762 | (907) 443-4261 | (907) 443-4601 | hpayenna@kawerak.org.
Native Village of Buckland | Percy Ballot Sr., Tribal President | P.O. Box 67, Buckland, AK 99727 | (907) 494-2169 | (907) 494-2192 | icwa@nunachiak.org.
Native Village of Cantwell | Michelle LeBlanc, ICWA Advocate | P.O. Box 383, Glennallen, AK 99588 | (907) 822-8480 | (907) 822-3225 | mleblanc@crnative.org.
Native Village of Chenega (aka Chanega) | Megan Bergene, Tribal Administrator | 3000 C St., Suite 301, Anchorage, AK 99503 | (907) 569-6949 | (907) 569-6939 | megan.green@chenegaira.com.
Native Village of Chignik Lagoon | Children's Services Division Manager | P.O. Box 310, Dillingham, AK 99576 | (907) 842-4139 | (907) 842-4106 | BBICWA@bbna.com.
Native Village of Chitina | Selah Ketcham, ICWA Coordinator | P.O. Box 31, Chitina, AK 99566 | (907) 823-2215 | (907) 823-2285 | chitina_icwa@outloOK.com.
Native Village of Chuathbaluk (Russian Mission, Kuskokwim) | Serena Solesbee, ICWA Program Manager | P.O. Box 219, Bethel, AK 99559 | (907) 543-8691 | (907) 543-7644 | icwa2@avcp.org.
Native Village of Council | Rhonda West, Tribal Coordinator | P.O. Box 2050, Nome, AK 99762 | (907) 443-7649 | (907) 443-5965 | tc.cou@kawerak.org.
Native Village of Deering | Jackie Hill, Director | P.O. Box 256, Kotzebue, AK 99752 | (907) 442-7879 | (907) 442-7885 | jackie.hill@maniilaq.org.
Native Village of Diomede (aka Inalik) | Heather Payenna, CFS Manager | P.O. Box 948, Nome, AK 99762 | (907) 443-4261 | (907) 443-4601 | hpayenna@kawerak.org.
Native Village of Eagle | Valeen “Niisha” Walsh & Michelle Peter, Tribal Social Services Manager/ICWA Advocate | 122 First Ave., Suite 600, Fairbanks, AK 99701 | (907) 452-8251 | (907) 459-3984 | Valeen.walsh@tananachiefs.org.
Native Village of Eek | Serena Solesbee, ICWA Program Manager | P.O. Box 219, Bethel, AK 99559 | (907) 543-8691 | (907) 543-7644 | icwa2@avcp.org.
Native Village of Ekuk | Children's Services Division Manager | P.O. Box 310, Dillingham, AK 99576 | (907) 842-4139 | (907) 842-4106 | BBICWA@bbna.com.
Native Village of Ekwok | Children's Services Division Manager | P.O. Box 310, Dillingham, AK 99576 | (907) 842-4139 | (907) 842-4106 | BBICWA@bbna.com.
Native Village of Elim | Heather Payenna, CFS Manager | P.O. Box 948, Nome, AK 99762 | (907) 443-4261 | (907) 443-4601 | hpayenna@kawerak.org.
Native Village of Eyak (Cordova) | Sarah Trumblee, ICWA Worker | P.O. Box 1388, Cordova, AK 99574 | (907) 424-2227 | (907) 424-7809 | icwa@eyak-nsn.gov.
Native Village of False Pass | Amanda McAdoo, Family Services Coordinator | 1131 E International Airport Rd., Anchorage, AK 99518 | (907) 276-2700 | (907) 222-9735 | amandam@apiai.org.
Native Village of Fort Yukon | Valeen “Niisha” Walsh & Michelle Peter, Tribal Social Services Manager/ICWA Advocate | 122 First Ave., Suite 600, Fairbanks, AK 99701 | (907) 452-8251 | (907) 459-3984 | Valeen.walsh@tananachiefs.org.
Native Village of Gakona | Charlene Nollner, Tribal Administrator | P.O. Box 102, Gakona, AK 99586 | (907) 822-5777 | (907) 822-5997 | gakonaprojects@gmail.com.
Native Village of Gambell | Heather Payenna, CFS Manager | Kawerak Inc. Children & Family Services, P.O. Box 948, Nome, AK 99762 | (907) 443-4261 | (907) 443-4601 | hpayenna@kawerak.org.
Native Village of Georgetown | Serena Solesbee, ICWA Program Manager | P.O. Box 219, Bethel, AK 99559 | (907) 543-8691 | (907) 543-7644 | SSolesbee@avcp.org.
Native Village of Goodnews Bay | Serena Solesbee, ICWA Program Manager | P.O. Box 219, Bethel, AK 99559 | (907) 543-8691 | (907) 543-7644 | icwa2@avcp.org.
Native Village of Hamilton | Serena Solesbee, ICWA Program Manager | P.O. Box 219, Bethel, AK 99559 | (907) 543-8691 | (907) 543-7644 | icwa2@avcp.org.
Native Village of Hooper Bay | Serena Solesbee, ICWA Program Manager | P.O. Box 219, Bethel, AK 99559 | (907) 543-8691 | (907) 543-7644 | icwa2@avcp.org.
Native Village of Kanatak | Children's Services Division Manager | P.O. Box 310, Dillingham, AK 99576 | (907) 842-4139 | (907) 842-4106 | BBICWA@bbna.com.
Native Village of Karluk | Kristeen Reft, ICWA Worker | P.O. Box 22, Karluk, AK 99608 | (907) 241-2238 |  | programassistant@karluktribal.org.
Native Village of Kiana | Jackie Hill, Director | P.O. Box 256, Kotzebue, AK 99752 | (907) 442-7879 | (907) 442-7885 | jackie.hill@maniilaq.org.
Native Village of Kipnuk | Serena Solesbee, ICWA Program Manager | P.O. Box 219, Bethel, AK 99559 | (907) 543-8691 | (907) 543-7644 | icwa2@avcp.org.
Native Village of Kivalina | Jackie Hill, Director | P.O. Box 256, Kotzebue, AK 99752 | (907) 442-7879 | (907) 442-7885 | tribeadmin@kivaliniq.org.
Native Village of Kluti Kaah (aka Copper Center) | Sarah White, ICWA Coordinator | P.O. Box 68, Copper Center, AK 99573 | (907) 822-5541 | (907) 822-5130 | nvkkicwa@outloOK.com.
Native Village of Kobuk | Jackie Hill, Director | P.O. Box 256, Kotzebue, AK 99752 | (907) 442-7879 | (907) 442-7885 | jackie.hill@maniilaq.org.
Native Village of Kongiganak | Minnie Nicholas, ICWA Worker | P.O. Box 5069, Kongiganak, AK 99545 | (907) 557-5311 | (907) 557-5224 | Kong.icwa@gmail.com.
Native Village of Kotzebue | Christina Hensley, Executive Director | P.O. Box 296, Kotzebue, AK 99752 | (907) 442-3467 |  | christina.hensley@qira.org.
Native Village of Koyuk | Heather Payenna, CFS Manager | P.O. Box 948, Nome, AK 99762 | (907) 443-4261 | (907) 443-4601 | hpayenna@kawerak.org.
Native Village of Kwigillingok | Andrew Beaver, ICWA Program Director | P.O. Box 90, Kwigillingok, AK 99622 | (907) 588-8144 | (907) 588-8429 | icwa@kwigtribe.org.
Native Village of Kwinhagak (aka Quinhagak) | Serena Solesbee, ICWA Program Manager | P.O. Box 219, Bethel, AK 99559 | (907) 543-8691 | (907) 543-7644 | icwa2@avcp.org.
Native Village of Larsen Bay | Julie Kaiser, ICWA Coordinator | 3449 E Rezanof Dr., Kodiak, AK 99615 | (907) 486-1395 | (907) 486-1329 | Julie.kaiser@kodiakhealthcare.org.
Native Village of Marshall (aka Fortuna Ledge) | Serena Solesbee, ICWA Program Manager | P.O. Box 219, Bethel, AK 99559 | (907) 543-8691 | (907) 543-7644 | icwa2@avcp.org.
Native Village of Mary's Igloo | Heather Payenna, CFS Manager | P.O. Box 948, Nome, AK 99762 | (907) 443-4261 | (907) 443-4601 | hpayenna@kawerak.org.
Native Village of Mekoryuk | Melanie Shavings, ICWA Coordinator | P.O. Box 66, Mekoryuk, AK 99630 | (907) 827-8827 | (907) 827-8133 | melanie.s@mekoryuktc.org.
Native Village of Minto | Valeen “Niisha” Walsh & Michelle Peter, Tribal Social Services Manager/ICWA Advocate | 122 First Ave., Suite 600, Fairbanks, AK 99701 | (907) 452-8251 | (907) 459-3984 | Valeen.walsh@tananachiefs.org.
Native Village of Nanwalek (aka English Bay) | Priscilla Evans, ICWA Coordinator | P.O. Box 8028, Nanwalek, AK 99603 | (907) 281-2284
Native Village of Napaimute | Serena Solesbee, ICWA Program Manager | P.O. Box 219, Bethel, AK 99559 | (907) 543-8691 | (907) 543-7644 | icwa2@avcp.org.
Native Village of Napakiak | Serena Solesbee, ICWA Program Manager | P.O. Box 219, Bethel, AK 99559 | (907) 543-8691 | (907) 543-7644 | icwa2@avcp.org.
Native Village of Napaskiak | Serena Solesbee, ICWA Program Manager | P.O. Box 219, Bethel, AK 99559 | (907) 543-8691 | (907) 543-7644 | icwa2@avcp.org.
Native Village of Nelson Lagoon | Amanda McAdoo, Family Services Coordinator | 1131 E International Airport Rd., Anchorage, AK 99518 | (907) 276-2700 | (907) 222-9735 | amandam@apiai.org.
Native Village of Nightmute | Serena Solesbee, ICWA Program Manager | P.O. Box 219, Bethel, AK 99559 | (907) 543-8691 | (907) 543-7644 | icwa2@avcp.org.
Native Village of Nikolski | Amanda McAdoo, Family Services Coordinator | 1131 E International Airport Rd., Anchorage, AK 99518 | (907) 276-2700 | (907) 222-9735 | amandam@apiai.org.
Native Village of Noatak | Benjamin P. Arnold, ICWA Coordinator | P.O. Box 89, Noatak, AK 99761 | (907) 485-2030 | (907) 485-2500 | icwa@nautaaq.org.
Native Village of Nuiqsut (aka Nooiksut) | Crystalynn Tulai & Charlie Kignak, ICWA | P.O. Box 1232, Utqiagvik, AK 99723 | (907) 852-9182 | (907) 852-9396 | Crystalynn.Tulai@arcticslope.org.
Native Village of Nunam Iqua | Serena Solesbee, ICWA Program Manager | P.O. Box 219, Bethel, AK 99559 | (907) 543-8691 | (907) 543-7644 | icwa2@avcp.org.
Native Village of Nunapitchuk | Eli J. Wassillie, Tribal Administrator | P.O. Box 104, Nunapitchuk, AK 99641 | (907) 527-5705 | (907) 527-5711 | nunap.icwa@gmail.com.
Native Village of Ouzinkie | Julie Kaiser, ICWA Coordinator | 3449 E Rezanof Dr., Kodiak, AK 99615 | (907) 486-1395 | (907) 486-1329 | Julie.Kaiser@kodiakhealthcare.org.
Native Village of Paimiut | Colleen Timmer, Tribal Administrator | P.O. Box 240084, Anchorage, AK 99524 | (907) 561-0304 | (907) 561-0305 | colleent@nvptc.org.
Native Village of Perryville | Children's Services Division Manager | P.O. Box 310, Dillingham, AK 99576 | (907) 842-4139 | (907) 842-4106 | BBICWA@bbna.com.
Native Village of Pilot Point | Children's Services Division Manager | P.O. Box 310, Dillingham, AK 99576 | (907) 842-4139 | (907) 842-4106 | BBICWA@bbna.com.
Native Village of Point Hope | Jan Vincent, Family/ICWA Case Worker | P.O. Box 109, Point Hope, AK 99766 | (907) 368-3122 | (907) 368-2332 | family.caseworker@tikigaq.com.
Native Village of Point Lay | Nicole Watson, Social Services Manager | P.O. Box 934, Barrow, AK 99723 | (907) 852-8146 |  | Nicole.Watson@icas-nsn.gov.
Native Village of Port Graham | Patrick Norman, Chief & ICWA Worker | P.O. Box 5510, Port Graham, AK 99603 | (907) 284-3023 | (907) 284-2222 | pat@portgraham.org.
Native Village of Port Heiden | Gerda Kosbruk, Tribal Administrator | 2200 James St., Port Heiden, AK 99549 | (907) 837-2296 | (907) 837-2297 | gerdak@portheidenalaska.com.
Native Village of Port Lions | Jack Harrison, Family Services Coordinator | P.O. Box 69, Port Lions, AK 99550 | (907) 454-2234 | (907) 454-2434 | familyservices@portlionstribe.org.
Native Village of Ruby | Valeen “Niisha” Walsh & Michelle Peter, Tribal Social Services Manager/ICWA Advocate | 122 First Ave., Suite 600, Fairbanks, AK 99701 | (907) 452-8251 | (907) 459-3984 | Valeen.walsh@tananachiefs.org.
Native Village of Saint Michael | Heather Payenna, CFS Manager | P.O. Box 948, Nome, AK 99762 | (907) 443-4261 | (907) 443-4601 | hpayenna@kawerak.org.
Native Village of Savoonga | Heather Payenna, CFS Manager | P.O. Box 948, Nome, AK 99762 | (907) 443-4261 | (907) 443-4601 | hpayenna@kawerak.org.
Native Village of Scammon Bay | Serena Solesbee, ICWA Program Manager | P.O. Box 219, Bethel, AK 99559 | (907) 543-8691 | (907) 543-7644 | icwa2@avcp.org.
Native Village of Selawik | Jackie Hill, Director | P.O. Box 256, Kotzebue, AK 99752 | (907) 442-7879 | (907) 442-7885 | tribeadmin@akuligaq.org.
Native Village of Shaktoolik | Heather Payenna, CFS Manager | P.O. Box 948, Nome, AK 99762 | (907) 443-4261 | (907) 443-4601 | hpayenna@kawerak.org.
Native Village of Shishmaref | Heather Payenna, CFS Manager | P.O. Box 948, Nome, AK 99762 | (907) 443-4261 | (907) 443-4601 | hpayenna@kawerak.org.
Native Village of Shungnak | Jackie Hill, Director | P.O. Box 256, Kotzebue, AK 99752 | (907) 442-7879 | (907) 442-7885 | jackie.hill@maniilaq.org.
Native Village of Stevens | Valeen “Niisha” Walsh & Michelle Peter, Tribal Social Services Manager/ICWA Advocate | 122 First Ave., Suite 600, Fairbanks, AK 99701 | (907) 452-8251 | (907) 459-3984 | Valeen.walsh@tananachiefs.org.
Native Village of Tanacross | Valeen “Niisha” Walsh & Michelle Peter, Tribal Social Services Manager/ICWA Advocate | Tanana Chiefs Conference, 122 First Ave., Suite 600, Fairbanks, AK 99701 | (907) 452-8251 | (907) 459-3984 | Valeen.walsh@tananachiefs.org.
Native Village of Tanana | Donna May Folger, ICWA Manager | P.O. Box 130, Tanana, AK 99777 | (907) 336-1025 | (907) 366-7246 | Tanana.TFYS@gmail.com.
Native Village of Tatitlek | Ms. Rami Paulsen, Tribal Administrator | P.O. Box 171, Tatitlek, AK 99677 | (907) 325-2311 | (907) 325-2289 | rpaulsen@tatitlek.com.
Native Village of Tazlina | Donna Renard, ICWA Coordinator | P.O. Box 87, Glennallen, AK 99588 | (907) 822-1082 | (907) 822-5865 | asst.tazlina@cvinternet.net.
Native Village of Teller | Heather Payenna, CFS Manager | P.O. Box 948, Nome, AK 99762 | (907) 443-4261 | (907) 443-4601 | hpayenna@kawerak.org.
Native Village of Tetlin | Valeen “Niisha” Walsh & Michelle Peter, Tribal Social Services Manager/ICWA Advocate | 122 First Ave., Suite 600, Fairbanks, AK 99701 | (907) 452-8251 | (907) 459-3984 | Valeen.walsh@tananachiefs.org.
Native Village of Tuntutuliak | Serena Solesbee, ICWA Program Manager | P.O. Box 219, Bethel, AK 99559 | (907) 543-8691 | (907) 543-7644 | icwa2@avcp.org.
Native Village of Tununak | Serena Solesbee, ICWA Program Manager | P.O. Box 219, Bethel, AK 99559 | (907) 543-8691 | (907) 543-7644 | icwa2@avcp.org.
Native Village of Tyonek | Marian King, Vice President | P.O. Box 82009, Tyonek, AK 99682 | (907) 583-2111 | (907) 583-2219 | nvtvpicwa@gmail.com.
Native Village of Unalakleet | Christy Schuneman, ICWA Caseworker | P.O. Box 357, Unalakleet, AK 99684 | (907) 624-3622 | (907) 624-5104 | tfc.unk@unkira.org.
Native Village of Unga | Amanda McAdoo, Family Services Coordinator | 1131 E International Airport Rd., Anchorage, AK 99518 | (907) 276-2700 | (907) 222-9735 | amandam@apiai.org.
Native Village of Venetie Tribal Government (Arctic Village and Village of Venetie) | Michelle Peter, ICWA Advoate | 122 First Ave., Suite 600, Fairbanks, AK 99701 | (907) 452-8251 | (907) 459-3984 | michelle.peter@tananachiefs.org.
Native Village of Wales | Heather Payenna, CFS Manager | P.O. Box 948, Nome, AK 99762 | (907) 443-4261 | (907) 443-4601 | hpayenna@kawerak.org.
Native Village of White Mountain | Heather Payenna, CFS Manager | P.O. Box 948, Nome, AK 99762 | (907) 443-4261 | (907) 443-4601 | hpayenna@kawerak.org.
Nenana Native Association | Valeen “Niisha” Walsh & Michelle Peter, Tribal Social Services Manager/ICWA Advocate | 122 First Ave., Suite 600, Fairbanks, AK 99701 | (907) 452-8251 | (907) 459-3984 | Valeen.walsh@tananachiefs.org.
New Koliganek Village Council | Children's Services Division Manager | P.O. Box 310, Dillingham, AK 99576 | (907) 842-4139 | (907) 842-4106 | BBICWA@bbna.com.
New Stuyahok Village | Children's Services Division Manager | P.O. Box 310, Dillingham, AK 99576 | (907) 842-4139 | (907) 842-4106 | BBICWA@bbna.com.
Newhalen Village | Maxine Wassillie, ICWA Worker | P.O. Box 207, Newhalen, AK 99606 | (907) 571-1410 | (907) 571-1537 | maxinewassillie@newhalentribal.com.
Newtok Village | Andrew John, Tribal Administrator | P.O. Box 5596, Newtok, AK 99559 | (907) 237-2202 | (907) 237-2210 | wwt10nnc@gmail.com.
Nikolai Village | Valeen “Niisha” Walsh & Michelle Peter, Tribal Social Services Manager/IWCA Advocate | 122 First Ave., Suite 600, Fairbanks, AK 99701 | (907) 452-8251 | (907) 459-3984 | Valeen.walsh@tananachiefs.org.
Ninilchik Village | Elise Weber, ICWA Specialist | P.O. Box 39444, Ninilchik, AK 99639 | (907) 206-2740 | (907) 567-3354 | eweber@ninilchiktribe-nsn.gov.
Nome Eskimo Community | Lola Tobuk, Director of Family Services | 101 W Benson Blvd., Suite 203, Anchorage, AK 99503 | (907) 339-1540 | (907) 222-2996 | lola.tobuk@necalaska.org.
Nondalton Village | Fawn Silas, Tribal Administrator | P.O. Box 49, Nondalton, AK 99640 | (907) 294-2257 | (907) 294-2271 | ntcssicwa@gmail.com.
Noorvik Native Community | Jackie Hill, Director | P.O. Box 256, Kotzebue, AK 99752 | (907) 442-7879 | (907) 442-7885 | jackie.hill@maniilaq.org.
Northway Village | Mariah Albert, ICWA Worker | P.O. Box 516, Northway, AK 99764 | (907) 778-2311 | (907) 778-2220 | icwa@aptalaska.net.
Nulato Village | Sharon Agnes, Director of Human Services | P.O. Box 65090, Nulato, AK 99765 | (907) 898-2236 | (907) 898-2238 | Sharon.tfys@outloOKcom.
Nunakauyarmiut Tribe | Serena Solesbee, ICWA Program Manager | P.O. Box 219, Bethel, AK 99559 | (907) 543-8691 | (907) 543-7644 | icwa2@avcp.org.
Organized Village of Grayling (aka Holikachuk) | Valeen “Niisha” Walsh & Michelle Peter, Tribal Social Services Manager/ICWA Advocate | 122 First Ave., Suite 600, Fairbanks, AK 99701 | (907) 452-8251 | (907) 459-3984 | Valeen.walsh@tananachiefs.org.
Organized Village of Kake | Nellie Puckett, Social Services | P.O. Box 316, Kake, AK 99830 | (907) 785-6471 | (907) 785-4902 | ga.icwa@kake-nsn.gov.
Organized Village of Kasaan | Will Kronick, Family Services Administrator | P.O. Box 25500, Juneau, AK 99802 | (907) 463-7169 | (907) 885-0032 | wkronick@tlingitandhaida.gov.
Organized Village of Kwethluk | Serena Solesbee, ICWA Program Manager | P.O. Box 219, Bethel, AK 99559 | (907) 543-8691 | (907) 543-7644 | SSolesbee@avcp.org.
Organized Village of Saxman | Will Kronick, Family Services Administrator | P.O. Box 25500, Juneau, AK 99802 | (907) 463-7169 | (907) 885-0032 | wkronick@tlingitandhaida.gov.
Orutsararmiut Traditional Native Council | Gertrude Peter & Andrew Steven, Social Services Director/ICWA Advocate | P.O. Box 927, Bethel, AK 99559 | (907) 543-2608 | (907) 543-2639 | gpeter@nativecouncil.org.
Oscarville Traditional Village | Serena Solesbee, ICWA Program Manager | P.O. Box 219, Bethel, AK 99559 | (907) 543-8691 | (907) 543-7644 | icwa2@avcp.org.
Pauloff Harbor Village | Amanda McAdoo, Family Services Coordinator | 1131 E International Airport Rd., Anchorage, AK 99518 | (907) 276-2700 | (907) 222-9735 | amandam@apiai.org.
Pedro Bay Village | Verna Kolyaha, Program Services | P.O. Box 47020, Pedro Bay, AK 99647 | (907) 850-2341 | (907) 850-2232 | vjkolyaha@pedrobay.com.
Petersburg Indian Association | Rachelle Larson, Indian Child Welfare Representative | P.O. Box 1410, Petersburg, AK 99833 | (907) 772-3636 | (907) 772-3686 | icwa@piatribal.org.
Pilot Station Traditional Village | Serena Solesbee, ICWA Program Manager | P.O. Box 219, Bethel, AK 99559 | (907) 543-8691 | (907) 543-7644 | icwa2@avcp.org.
Pitka's Point Traditional Council | Serena Solesbee, ICWA Program Manager | P.O. Box 219, Bethel, AK 99559 | (907) 543-8691 | (907) 543-7644 | icwa2@avcp.org.
Platinum Traditional Village | Serena Solesbee, ICWA Program Manager | P.O. Box 219, Bethel, AK 99559 | (907) 543-7461 | (907) 543-7644 | icwa2@avcp.org.
Portage Creek Village (aka Ohgsenakale) | Children's Services Division Manager | P.O. Box 310, Dillingham, AK 99576 | (907) 842-4139 | (907) 842-4106 | BBICWA@bbna.com.
Qagan Tayagungin Tribe of Sand Point | Amanda McAdoo, Family Services Coordinator | 1131 E International Airport Rd., Anchorage, AK 99518 | (907) 276-2700 | (907) 222-9735 | amandam@apiai.org.
Qawalangin Tribe of Unalaska | Amanda McAdoo, Family Services Coordinator | 1131 E International Airport Rd., Anchorage, AK 99518 | (907) 276-2700 | (907) 222-9735 | amandam@apiai.org.
Rampart Village | Valeen “Niisha” Walsh & Michelle Peter, Tribal Social Services Manager/ICWA Advocate | 122 First Ave., Suite 600, Fairbanks, AK 99701 | (907) 452-8251 | (907) 459-3984 | Valeen.walsh@tananachiefs.org.
Saint George Island | Amanda McAdoo, Family Services Coordinator | 1131 E International Airport Rd., Anchorage, AK 99518 | (907) 276-2700 | (907) 222-9735 | amandam@apiai.org.
Saint Paul Island | Sheridan DesGranges, Director | 4720 Business Park Blvd, Suite G-42, Anchorage, AK 99503 | (907) 546-8301 | (907) 931-2648 | sldesgranges@aleUT.com.
Salamatof Tribe | Maria Guerra, Family and Social Services Director | P.O. Box 988, Kenai, AK 99611 | (907) 335-7613 | (907) 202-8359 | familyservicesdepartment@kenaitze.org.
Seldovia Village Tribe | Joni Wise, ICWA Worker | Drawer L, Seldovia, AK 99663 | (907) 435-3207 | (907) 234-7865 | jwise@svt.org.
Shageluk Native Village | Valeen “Niisha” Walsh & Michelle Peter, Tribal Social Services Manager/ICWA Advocate | 122 First Ave., Suite 600, Fairbanks, AK 99701 | (907) 452-8251 | (907) 459-3984 | Valeen.walsh@tananachiefs.org.
Sitka Tribe of Alaska | Melonie Boord, Social Services Director | 204 Siginaka Way, Suite 300, Sitka, AK 99835 | (907) 747-7221 | (907) 747-4915 | staicwa@sitkatribe-nsn.gov.
Skagway Village | Kathryn Klug, ICWA Worker | P.O. Box 1157, Skagway, AK 99840 | (907) 983-4068 | (907) 983-3068 | Kathryn@skagwaytraditional.org.
South Naknek Village | Anishia Elbie, Interim ICWA Coordinator | P.O. Box 70029, South Naknek, AK 99670 | (907) 440-4100 |  | aelbie.snvc@gmail.com.
Stebbins Community Association | Heather Payenna, CFS Manager | P.O. Box 948, Nome, AK 99762 | (907) 443-4261 | (907) 443-4601 | hpayenna@kawerak.org.
Sun'aq Tribe of Kodiak | Sean Hales, Social Services Director | 312 W Marine Way, Kodiak, AK 99615 | (907) 206-6621 | (907) 486-3361 | shales@sunaq.org.
Takotna Village | Valeen “Niisha” Walsh & Michelle Peter, Tribal Social Services Manager/ICWA Advocate | 122 First Ave., Suite 600, Fairbanks, AK 99701 | (907) 452-8251 | (907) 459-3984 | Valeen.walsh@tananachiefs.org.
Tangirnaq Native Village | Gwen Sargent, Tribal Administrator | 3449 Rezanof Dr. E, Kodiak, AK 99615 | (907) 486-9872 | (907) 486-4829 | info@woodyisland.com.
Telida Village | Valeen “Niisha” Walsh & Michelle Peter, Tribal Social Services Manager/ICWA Advocate | 122 First Ave., Suite 600, Fairbanks, AK 99701 | (907) 452-8251 | (907) 459-3984 | Valeen.walsh@tananachiefs.org.
Traditional Village of Togiak | Children's Services Division Manager | P.O. Box 310, Dillingham, AK 99576 | (907) 842-4139 | (907) 842-4106 | BBICWA@bbna.com.
Tuluksak Native Community | Serena Solesbee, ICWA Program Manager | P.O. Box 219, Bethel, AK 99559 | (907) 543-8691 | (907) 543-7644 | icwa2@avcp.org.
Twin Hills Village | Children's Services Division Manager | P.O. Box 310, Dillingham, AK 99576 | (907) 842-4139 | (907) 842-4106 | BBICWA@bbna.com.
Ugashik Village | Steven Alvarez, Tribal Administrator | 2525 Blueberry Rd., Suite 205, Anchorage, AK 99503 | (907) 338-7611 | (907) 338-7659 | manager@ugashikvillage.com.
Umkumiut Native Village | Serena Solesbee, ICWA Program Manager | P.O. Box 219, Bethel, AK 99559 | (907) 543-8691 | (907) 543-7644 | icwa2@avcp.org.
Village of Alakanuk | Serena Solesbee, ICWA Program Manager | P.O. Box 219, Bethel, AK 99559 | (907) 543-8691 | (907) 543-7644 | icwa2@avcp.org.
Village of Anaktuvuk Pass | Crystalynn Tulai & Charlie Kignak, ICWA | P.O. Box 1232, Utqiagvik, AK 99723 | (907) 852-9182 | (907) 852-9396 | Crystalynn.Tulai@arcticslope.org.
Village of Aniak | Mary L. Kvamme, ICWA Coordinator | P.O. Box 232, Aniak, AK 99557 | (907) 675-4733 | (907) 675-4513 | mkvamme61@gmail.com.
Village of Atmautluak | Serena Solesbee, ICWA Program Manager | P.O. Box 219, Bethel, AK 99559 | (907) 543-8691 | (907) 543-7644 | icwa2@avcp.org.
Village of Bill Moore's Slough | Serena Solesbee, ICWA Program Manager | P.O. Box 219, Bethel, AK 99559 | (907) 543-8691 | (907) 543-7644 | icwa2@avcp.org.
Village of Chefornak | Edward Kinegak, ICWA Specialist | P.O. Box 110, Chefornak, AK 99561 | (907) 867-8808 | (907) 867-8711 | suckaq@gmail.com.
Village of Clarks Point | Children's Services Division Manager | P.O. Box 310, Dillingham, AK 99576 | (907) 542-4139 | (907) 842-4106 | BBICWA@bbna.com.
Village of Crooked Creek | Serena Solesbee, ICWA Program Manager | P.O. Box 219, Bethel, AK 99559 | (907) 543-8691 | (907) 543-7644 | icwa2@avcp.org.
Village of Dot Lake | Chance Shank, ICWA | P.O. Box 70488, Fairbanks, AK 99707 | (907) 712-4315 |  | chanceshank@gmail.com.
Village of Iliamna | Chasity Anelon, ICWA Worker | P.O. Box 286, Iliamna, AK 99606 | (907) 571-1246 | (907) 571-3539 | Chasity.anelon@iliamnavc.org.
Village of Kalskag | Serena Solesbee, ICWA Program Manager | P.O. Box 219, Bethel, AK 99559 | (907) 543-8691 | (907) 543-7644 | icwa2@avcp.org.
Village of Kaltag | Valeen “Niisha” Walsh & Michelle Peter, Tribal Social Services Manager/ICWA Advocate | 122 First Ave., Suite 600, Fairbanks, AK 99701 | (907) 452-8251 | (907) 459-3984 | Valeen.walsh@tananachiefs.org.
Village of Kotlik | Serena Solesbee, ICWA Program Manager | P.O. Box 219, Bethel, AK 99559 | (907) 543-8691 | (907) 543-7644 | SSolesbee@avcp.org.
Village of Lower Kalskag | Serena Solesbee, ICWA Program Manager | P.O. Box 219, Bethel, AK 99559 | (907) 543-8691 | (907) 543-7644 | icwa2@avcp.org.
Village of Ohogamiut | Serena Solesbee, ICWA Program Manager | P.O. Box 219, Bethel, AK 99559 | (907) 543-8691 | (907) 543-7644 | icwa2@avcp.org.
Village of Red Devil | Serena Solesbee, ICWA Program Manager | P.O. Box 219, Bethel, AK 99559 | (907) 543-8691 | (907) 543-7644 | SSolebee@avcp.org.
Village of Sleetmute | Serena Solesbee, ICWA Program Manager | P.O. Box 219, Bethel, AK 99559 | (907) 543-8691 | (907) 543-7644 | icwa2@avcp.org.
Village of Solomon | Sherri Lewis, ICWA | P.O. Box 2053, Nome, AK 99762 | (907) 443-4985 | (907) 443-5189 | tc.sol@kawerak.org.
Village of Stony River | Serena Solesbee, ICWA Program Manager | P.O. Box 219, Bethel, AK 99559 | (907) 543-8691 | (907) 543-7644 | icwa2@avcp.org.
Village of Venetie (See Native Village of Venetie Tribal Government) | Valeen “Niisha” Walsh & Michelle Peter, Tribal Social Services Manager/ICWA Advocate | 122 First Ave., Suite 600, Fairbanks, AK 99701 | (907) 452-8251 | (907) 459-3984 | Valeen.walsh@tananachiefs.org.
Village of Wainwright | Crystalynn Tulai & Charlie Kignak, ICWA | P.O. Box 1232, Utqiagvik, AK 99723 | (907) 852-9182 | (907) 852-9396 | Crystalynn.Tulai@arcticslope.org.
Wrangell Cooperative Association | Will Kronick, Family Services Administrator | P.O. Box 25500, Juneau, AK 99802 | (907) 463-7169 | (907) 885-0032 | wkronick@tlingitandhaida.gov.
Yakutat Tlingit Tribe | Penny James, Human Services Director | P.O. Box 387, Yakutat, AK 99689 | (907) 784-3368 | (907) 784-3595 | pjames@ytttribe.org.
Yupiit of Andreafski | Serena Solesbee, ICWA Program Manager | P.O. Box 219, Bethel, AK 99559 | (907) 543-8691 | (907) 543-7644 | SSolesbee@avcp.org.

2. Eastern Region

Eastern Regional Director, 545 Marriot Dr., Ste. 700, Nashville, TN 37214; Telephone: (615) 546-6500; Fax: (615) 564-6701.

Catawba Indian Nation | Angela Branham, Director of Family and Social Services | 996 Avenue of The Nations, Rock Hill, SC 29730 | (803) 366-4792 | (803) 325-1242 | Angela.branham@catawba.com.
Cayuga Nation | Sharon Leroy, Executor | P.O. Box 803, Seneca Falls, NY 13148 | (315) 568-0750 | (315) 568-0752 | sharon.leroy@cayuganation-nsn.gov.
Chickahominy Indian Tribe | Martha N. Adkins, ICWA Coordinator | 8200 Lott Cary Rd., Providence Forge, VA 23140 | (804) 829-2027 |  | martha.adkins@chickahominytribe.org.
Chickahominy Indian Tribe—Eastern Division | Doris Ann Austin, ICWA Coordinator | 2895 MT Pleasant Rd., Providence Forge, VA 23140 | (804) 966-7815 | (804) 506-3017 | doris.austin@cit-ed.org.
Chitimacha Tribe of Louisiana | Karen Matthews, Human Services Director | P.O. Box 520, Charenton, LA 70523 | (337) 923-7000 | (337) 923-4205 | karen@chitimacha.gov.
Coushatta Tribe of Louisiana | Janson Poncho, Tribal Court Liaison | 1984 CC Bel RD., Elton, LA 70532 | (337) 304-2017 | (337) 584-1474 | japoncho@coushatta.org.
Eastern Band of Cherokee Indians | Jenny Bean, Family Safety Supervisor | P.O. Box 666, Cherokee, NC 28719 | (828) 359-6149 | (828) 359-0216 | jennbean@ebci-nsn.gov.
Houlton Band of Maliseet Indians | Lori Jewell, ICWA Director | 88 Bell Rd., Littleton, ME 04730 | (207) 538-2266 | (207) 532-7287 | ljewell@maliseets.com.
Jena Band of Choctaw Indians | Malori Strange, ICWA Specialist | P.O. Box 14, Jena, LA 71342 | (318) 992-1169 | (318) 992-4162 | mmaxwell@jenachoctaw.org.
Mashantucket Pequot Indian Tribe | Jodi Milardo, Director Child Protective Services | 102 Muhshee Mahchaq, P.O. Box 3313, Mashantucket, CT 06338 | (860) 396-2007 | (860) 396-2144 | Jmilardo@mptn-nsn.gov.
Mashpee Wampanoag Tribe | Maria Turner, ICWA Director | 483 Great Neck Rd., South, Mashpee, MA 02649 | (508) 477-0208 | (774) 361-6034 | maria.turner@mwtribe-nsn.gov.
Miccosukee Tribe of Indians | Martha Vega, Director of Social Services | P.O. Box 440021, Tamiami Station, Miami, FL 33144 | (305) 223-8380 | (305) 894-5232 | marthav@miccosukeetribe.com.
Mi'kmaq Nation | Norma Saulis, ICWA Director | 7 Northern Rd., Presque Isle, ME 04769 | (207) 764-1972 | (207) 764-7667 | nsaulis@micmac-nsn.gov.
Mississippi Band of Choctaw Indians | Natasha Wesley-LaSarge, ICWA Coordinator | P.O. Box 6258, Choctaw, MS 39350 | (601) 656-4507 | (601) 656-1357 | icwa@choctaw.org.
Mohegan Tribe of Indians of Connecticut | Teri McHale, Ph.D, Director of Behavioral Health Clinical Services | 13 Crow Hill Rd., Uncasville, CT 06382 | (860) 862-6236 | (860) 862-6324 | tmchale@moheganmail.com.
Monacan Indian Nation | Matthew & Sally Latimer, ICWA Coordinators | 111 Highview Dr., Madison Heights, VA 24572 | (434) 363-4864 |  | s.latimer124@aol.com.
Nansemond Indian Nation | Chief Keith F. Anderson | 1001 Pembroke Lane, Suffolk, VA 23434 | (757) 619-0670 |  | chief@nansemond.org.
Narragansett Indian Tribe | Anemone Mars, ICWA Program Manager | 4533 S County Trail, P.O. Box 268, Charlestown, RI 02813 | (401) 364-9500 | (401) 364-1104 | n.tcfs.dept@outloOKcom.
Oneida Indian Nation | Kim Jacobs, Nation Clerk | Box 1, Vernon, NY 13476 | (315) 829-8337 | (315) 366-9231 | kjacobs@oneida-nation.org.
Onondaga Nation | Onondaga Family Services | 104 W Conklin Ave., Nedrow, NY 13120 | (315) 469-9196 | (315) 469-3250 | ononfs@gmail.com.
Pamunkey Indian Tribe | Allyson Gray, ICWA/Enrollment Coordinator | 1054 Pocahontas Trail, King William, VA 23086 | (804) 843-2372 | (866) 422-3387 | allyson.gray@pamunkey.org.
Passamaquoddy Tribe—Indian Township | Carrie Cropley, Director of Child & Family Services | P.O. Box 301, Princeton, ME 04668 | (207) 904-8701 |  | ccropley.itcw@gmail.com.
Passamaquoddy Tribe—Pleasant Point | Diane Libby, Director | P.O. Box 343, Perry, ME 04667 | (207) 853-5139 | (207) 853-9618 | dlibby2021@gmail.com.
Penobscot Nation | Michael Augustine, Director of Social Services | 2 Down St., Indian Island, ME 04468 | (207) 817-3165 | (207) 817-3166 | Michael.Augustine@penobscotnation.org.
Poarch Band of Creek Indians | Synethia K. Thomas, ICWA Director | 5811 Jack Springs Rd., Atmore, A. 36502 | (251) 368-9136 |  | sthomas@pci-nsn.gov.
Rappahannock Tribe, Inc | G. Anne Richardson, ICWA Coordinator | 5036 Indian Neck Rd., Indian Neck, VA 23148 | (804) 769-0260 |  | info@rappahannocktribe.org.
Saint Regis Mohawk Tribe | Sky Timmons, ICWA Program Manager | 71 Margaret Terrance Memorial Way, Akwesasne, NY 13655 | (518) 358-2360 | 518.358.9107 | sky.timmons@srmt-nsn.gov.
Seminole Tribe of Florida | Shamika Beasley, Advocacy Assistant Director | 111 W Coral Way, Hollywood, FL 33021 | (954) 965-1338 | (954) 985-2339 | shamikabeasley@semtribe.com.
Seneca Nation of Indians | Shaela Maybee, Director of Child & Family Services | 987 RC Hoag Dr., Salamanca, NY 14799 | (716) 945-5894 | (716) 945-7881 | shmaybee@senecahealth.org.
Shinnecock Indian Nation | Paula Collins, ICWA Coordinator | P.O. Box 1268, South Hampton, NY 11969 | (631) 287-6476 |  | paulacollins@shinnecock.org.
Tonawanda Band of Seneca | Chief Roger Hill | 7027 Meadville Rd., Basom, NY 14013 | (716) 542-4244 | (716) 542-4008 | tonseneca@aol.com.
Tunica-Biloxi Indian Tribe | Evelyn Cass, Social Service Department | P.O. Box 493, Marksville, LA 71351 | (318) 240-6455 | (318) 500-3011 | ecass@tuniCA.org.
Tuscarora Nation | Chief Tom Jonathan | 5226 Walmore Rd., Lewiston, NY 14092 | (716) 264-6007 |  | tuscnationhouse@gmail.com.
Upper Mattaponi Tribe | Wilma Hicks, Assistant Tribal Administrator | 13476 King Willliam Rd., King William, VA 23086 | (804) 535-0557 |  | assistantadmin@umitribe.org.
Wampanoag Tribe of Gay Head (Aquinnah) | Cheryl Andrews-Maltais, ICWA Coordinator | 20 Black Brook Rd., Aquinnah, MA 02535 | (508) 645-9265 | (508) 645-2755 | chairwoman@wampanoagtribe-nsn.gov.

3. Eastern Oklahoma Region

Eastern Oklahoma Regional Director, Atten: Human Services, P.O. Box 8002, Muskogee, OK 74402; Telephone: (918) 781-4600; Fax (918) 781-4604.

Alabama-Quassarte Tribal Town | Vacant | P.O. Box 187, Wetumka, OK 74883 | (405) 452-3659 | (405) 452-3435
Cherokee Nation | Lou Stretch, Indian Child Welfare Director | P.O. Box 948, Tahlequah, OK 74465 | (918) 458-6900 | (918) 458-4216 | ICWAEligCherokeeNation@cherokee.org.
Delaware Tribe of Indians | Shelby Lacey, Department of Family and Children Services | 5100 Tuxedo Blvd. Ste. C, Bartlesville, OK 74006 | (918) 337-6610 | (918) 337-6518 | slacey@delawaretribe.org.
Eastern Shawnee Tribe of Oklahoma | Tamara Gibson, Child and Family Services Coordinator | 10100 S Bluejacket Rd., Suite 3, Wyandotte, OK 74370 | (918) 666-7710 | (888) 971-3908 | tgibson@estoo.net.
Kialegee Tribal Town | Angie Beaver, ICW Coordinator | P.O. Box 332, Wetumka, OK 74883 | (405) 452-5388 | (405) 452-3413 | angie.beaver@kialegeetribe.net.
Miami Tribe of Oklahoma | Corinna Campbell-Green, ICW Coordinator | P.O. Box 1326, Miami, OK 74355 | (918) 541-1381 | (918) 542-6448 | Ccampbell-green@miamination.com.
Modoc Nation | Amy Maze-Crowder, ICW Coordinator | 21 N Eight Tribes Trail, Suite B, Miami, OK 74354 | (918) 387-8720 | (918) 542-7878 | amy.maze-crowder@modocnation.com.
Ottawa Tribe of Oklahoma | Marco Favela, Director of Child Welfare | P.O. Box 110, Miami, OK 74355 | (918) 540-1536 | (918) 542-3214 | mfavela.oto@gmail.com.
Peoria Tribe of Indians of Oklahoma | Tracy Coach, Indian Child Welfare Director | P.O. Box 1527, Miami, OK 74355 | (918) 540-2535 | (918) 540-2538 | tcoach@peoriatribe.com.
Quapaw Nation | Ashley Obrien, Lead/Supervisor ICW | P.O. Box 765, Quapaw, OK 74363 | (918) 238-3152 | (918) 674-2581 | ashley.obrien@quapawnation.com.
Seneca-Cayuga Nation | Kim Phillips, ICW Director | P.O. Box 453220, Grove, OK 74345 | (918) 791-6054 | (918) 787-5521 | kphillips@sctribe.com.
Shawnee Tribe | Stephanie Hailey, ICW Director | P.O. Box 189, Miami, OK 74355 | (918) 542-2441 |  | stephanie@shawnee-tribe.com.
The Chickasaw Nation | Kim Johnson, Director | 810 Colony Dr., Ada, OK 74820 | (580) 272-5550 | (580) 272-5553 | ICWACPS@chickasaw.net.
The Choctaw Nation of Oklahoma | Amanda Robinson, ICWA Director | 1802 Chukka Hina Dr., P.O. Box 1210, Durant, OK 74702 | (580) 924-8280 | (580) 642-8877 | cfsreferrals@choctawnation.com.
The Muscogee (Creek) Nation | Michelle Bender, CFSA Director | P.O. Box 580, Okmulgee, OK 74447 | (918) 549-2551 | (918) 732-7854 | mbender@muscogeenation.com.
The Osage Nation | Jerod Applegate, Social Work Supervisor | 255 Senior Dr., Pawhuska, OK 74056 | (918) 287-5335 | (918) 287-5231 | jerod.applegate@osagenation-nsn.gov.
The Seminole Nation of Oklahoma | Stephanie Haney Brown, Director | P.O. Box 1498, Wewoka, OK 74884 | (405) 584-8660 | (405) 257-9036 | haneybrown.s@sno-nsn.gov.
Thlopthlocco Tribal Town | Yvonda Fixico, Social Service Director | P.O. Box 188, Okemah, OK 74859 | (918) 560-6198 | (918) 623-3023 | yfixico@tttown.org.
United Keetoowah Band of Cherokee Indians in Oklahoma | Rolanda Aimerson, ICW Director | P.O. Box 746, Tahlequah, OK 74465 | (918) 871-2762 | (918) 431-0152 | raimerson@ukb-nsn.gov.
Wyandotte Nation | Tara Gragg, ICW Supervisor | 8 Turtle Dr., Wyandotte, OK 74370 | (918) 678-2297 | (918) 678-6355 | wnfs@wyandotte-nation.org.

4. Great Plains Region

Great Plains Regional Director, Attn: Human Services, 115 4th Ave. SE, Ste. 400, Aberdeen, SD 57401; Telephone: (605) 226-7343; Fax: (605) 226-7446.

Cheyenne River Sioux Tribe of the Cheyenne River Reservation, South Dakota | Diane Garreau, ICWA Program Director | 104 Main Teton Mall, P.O. Box 590, Eagle Butte, SD 57625 | (605) 964-6460 | (605) 964-6463 | Dgarreau61@gmail.com.
Crow Creek Sioux Tribe of the Crow Creek Reservation, South Dakota | Doreen Bagola, CCST ICWA Director | 147 Red Horse Rd., P.O. Box 143, Ft. Thompson, SD 57339 | (605) 245-2581 | (605) 245-2401 | icwaccst@gmail.com.
Flandreau Santee Sioux Tribe of South Dakota | Jessica Morson, ICWA Administrator | 603 W Broad Ave., P.O. Box 283, Flandreau, SD 57028 | (605) 997-5055 | (605) 997-3878 | jessiCAmorson@fsst.org.
Lower Brule Sioux Tribe of the Lower Brule Reservation, South Dakota | Lydia Sazue, ICWA Director | 187 Oyate Circle, Lower Brule, SD 57548 | (605) 473-5561 | (605) 473-5506 | lydiasazue@lowerbrule.net.
Oglala Sioux Tribe | Juanita Scherich, Oglala Sioux Tribe ICWA Supervisor | E Hwy. 18, IHS Compound, P.O. Box 604, Pine Ridge, SD 57770 | (605) 867-5752 | (605) 867-5941 | juanita@oglala.org.
Omaha Tribe of Nebraska | Kash Echtenkamp, ICWA Specialist | P.O. Box 500, Macy, NE 68039 | (402) 837-5331 | (402) 837-5362 | kash.echtenkamp@theomahatribe.com.
Ponca Tribe of Nebraska | Stephanie Pospisil, Social Service Program Director | 1600 Windhoek Dr., Lincoln, NE 68512 | (531) 248-3030 | (531) 500-4530 | spopisil@poncatribe-ne.org.
Rosebud Sioux Tribe of the Rosebud Indian Reservation, South Dakota | Shirley J. Bad Wound, ICWA Specialist | E Hwy. 18, P.O. Box 609, Mission, SD 57555 | (605) 856-5270 | (605) 856-5268 | rsticwa9@gwtc.net.
Santee Sioux Nation, Nebraska | Renae Wolf, ICWA Specialist | 425 Frazier Ave. N, Suite 2, RR 302-P.O. Box 5191, Niobrara, NE 68760 | (402) 857-2342 | (402) 857-2361 | renae.wolf@nebraska.gov.
Sisseton-Wahpeton Oyate of the Lake Traverse Reservation, South Dakota | Evelyn Pilcher, ICWA Director | 12554 BIA Route 701, P.O. Box 509, Agency Village, SD 57262 | (605) 698-3992 | (605) 698-3999 | evelyn.pilcher@state.sd.us.
Spirit Lake Tribe, North Dakota | Marie Martin, ICWA Coordinator | 7184 Hwy. 57, P.O. Box 356, Fort Totten, ND 58335 | (701) 766-4855 | (701) 766-4722 | slticwadir@spiritlakenation.com.
Standing Rock Sioux Tribe of North & South Dakota | Michelle Harrison, ICWA Director | Bldg. 1 Standing Rock Ave., P.O. Box 770, Fort Yates, ND 58538 | (701) 854-3095 | (701) 854-5575 | mharrison@standingrock.org.
Three Affiliated Tribes of the Fort Berthold Reservation, North Dakota | Shelby Fox, ICWA Worker | 307 5th Ave., New Town, ND 58763 | (701) 627-8150 | (701) 627-5550 | shelbyfox@mhanation.com.
Turtle Mountain Band of Chippewa Indians of North Dakota | Marilyn Poitra, ICWA Coordinator | 4051 Hwy. 281, P.O. Box 900, Belcourt, ND 58316 | (701) 477-5688 | (701) 477-5797 | marilynp@tmcwfs.net.
Winnebago Tribe of Nebraska | Elexa Mollet, ICWA Specialist | 218 Industrial Rd., P.O. Box 723, Winnebago, NE 68071 | (402) 257-5586 | (402) 878-2228 | elexa.mollet@winnebagotribe.com.
Yankton Sioux Tribe of South Dakota | Kennedy Sully, ICWA Director | 108 E Ave. SE, P.O. Box 1153, Wagner, SD. 57380 | (605) 384-5712 | (605) 384-5014 | ksully@yanktonsiouxtribe.net.

5. Midwest Region

Midwest Regional Director, 5600 West American Blvd., Ste. 500, Pointe II Building, Bloomington, MN 55437; Telephone: (612) 725-4500; Fax: (612) 713-4401.

Bad River Band of the Lake Superior Tribe of Chippewa Indians of the Bad River Reservation, Wisconsin | Gina Secord or Desiree Garcia-Cardoso, Abinoojiyag Resource Center Program Manager, ICWA Case Manager | P.O. Box 55, Odanah, WI 54861 | (715) 682-7127 | (715) 682-7883 | ARCMgr@baDr.r-nsn.gov.
Bay Mills Indian Community, Michigan | Phyllis Malloy, Enrollment Services | 12140 W Lakeshore Dr., Brimley, MI 49715 | (906) 248-8100 | (906) 248-3283 | phyllism@baymills.org.
Forest County Potawatomi Community, Wisconsin | Deanna Collins, ICWA Contact/Representative | 5415 Everybody's Rd., P.O. Box 340, Crandon, WI 54520 | (715) 478-4957 | (715) 478-7442 | Deanna.Collins@fcp-nsn.gov.
Grand Traverse Band of Ottawa & Chippewa Indians, Michigan | Denise Johnson or Bob Downen, Anishinaabek Family Services Supervisor and CPS Caseworker | 2605 N West Bayshore Dr., Peshawbestown, MI 49682 | (231) 534-7124 | (231) 534-7706 | ICWA@gtb-nsn.gov.
Hannahville Indian Community, Michigan | Sheila Nantelle or Hannah Roland, ICWA Contact | N15019 Hannahville B1 Rd., Wilson, MI 49896 | (906) 723-2510 | (906) 466-7397 | Sheila.Nantelle@hichealth.org.
Ho-Chunk Nation of Wisconsin | Valerie Blackdeer or ICWA Representative, CFS Director/ICWA Contact | 808 Red Iron Rd., Black River Falls, WI 54615 | (715) 284-7749 | (715) 284-0097 | valerie.blackdeer@ho-chunk.com.
Keweenaw Bay Indian Community, Michigan | Nancy Pawlowski or Mariah Fish, ICWA Designated Agent | 16429 Bear Town Rd., Baraga, MI 49908 | (906) 353-4201 | (906) 353-8171 | social.services@kbic-nsn.gov.
Lac Courte Oreilles Band of Lake Superior Chippewa Indians of Wisconsin | Tibissum Rice, Indian Child Welfare Director | 13394 W Trepania Rd., Hayward, WI 54843 | (715) 558-7457 | (715) 634-2981 | Tibissum.Rice@lco-nsn.gov.
Lac du Flambeau Band of Lake Superior Chippewa Indians of the Lac du Flambeau Reservation of Wisconsin | Kristin Allen, ICWA Director | P.O. Box 216, Lac du Flambeau, WI 54538 | (715) 588-4275 | (715) 588-3855 | ldficw@ldftribe.com.
Lac Vieux Desert Band of Lake Superior Chippewa Indians of Michigan | Dee Dee McGeshick or Wendy Thrasher, Social Services Director/ICWA Representative | P.O. Box 249, Watersmeet, MI 49969 | (906) 358-4940 | (906) 358-9920 | Dee.Mcgeshick@lvd-nsn.gov.
Little River Band of Ottawa Indians, Michigan | Marissa Kist, Prosecutors Office | 3031 Domres Rd., Manistee, MI 49660 | (231) 398-3384 | (231) 398-3387 | MarissaKist@lrboi-nsn.gov.
Little Traverse Bay Bands of Odawa Indians, Michigan | Heather Boening or Melanie Gasco, Human Services Director/Program Manager | 7500 Odawa Circle, Attn: DHS, Harbor Springs, MI 49740 | (231) 242-1620 | (231) 242-1635 | ICWA@ltbbodawa-nsn.gov.
Lower Sioux Indian Community in the State of Minnesota | Holly Schmitt or Arielle Aude or ICWA Representative, Lower Sioux Family Services | 39458 Reservation Hwy. 1, Morton, MN 56270 | (507) 697-8680 | (507) 697-6198 | lsfsintake@lowersioux.com.
Match-e-be-nash-she-wish Band of Pottawatomi Indians of Michigan | Dominique Ambriz, ICWA Representative | 2880 Mission Dr., Shelbyville, MI 49344 | (269) 397-1760 | (269) 397-1761 | Dominique.Ambriz@hhs.glt-nsn.gov.
Menominee Indian Tribe of Wisconsin | Carol Corn, Director, Menominee Tribal Family Services | P.O. Box 520, Keshena, WI 54135 | (715) 799-5161 | (715) 799-6061 | MenomineeFamilyServices@mitw.org.
Minnesota Chippewa Tribe | Joel Smith or Dr. Evelyn (Evie) Campbell, EdD, MSW, Director of Administration/Human Services Director | 15542 State Hwy. 371, P.O. Box 217, Cass Lake, MN 56633 | (218) 335-8581 |  | jsmith@mnchippewatribe.org.
Minnesota Chippewa Tribe—Bois Forte Band (Nett Lake) | Angela Wright, Indian Child Welfare Manager | 13071 Nett Lake Rd., Suite A, Nett Lake, MN 55771 | (218) 757-3295 | (218) 757-3335 | amwright@boisforte-nsn.gov.
Minnesota Chippewa Tribe—Fond du Lac Band | Janelle Barney, ICWA Representative | 927 Trettel Ln., ATTN: Social Services, Cloquet, MN 55720 | (218) 878-2142 | (218) 878-2189 | icwanotices@fdlrez.com.
Minnesota Chippewa Tribe—Grand Portage Band | Jacki Kozlowski, Human Service Director/ICWA Contact | P.O. Box 428, Grand Portage, MN 55605 | (218) 475-2453 | (218) 475-2455 | jkozlowski@grandportage.com.
Minnesota Chippewa Tribe—Leech Lake Band | Justina Farris, Intake Coordinator/ICWA Contact | 190 Sailstar Dr. NE, P.O. Box 967, Cass Lake, MN 56633 | (218) 335-8328 | (218) 335-3768 | justina.farris@llojibwe.net.
Minnesota Chippewa Tribe—Mille Lacs Band | Tabatha Boyd, Paralegal/ICWA Contact | 43408 Oodena Dr., Onamia, MN 56359 | (320) 364-9539 | (320) 532-7836 | Notices.OSG@millelacsband.com.
Minnesota Chippewa Tribe—White Earth Band | Aimee Millage, ICWA/MIFPA Contact | P.O. Box 358, White Earth, MN 56591 | (218) 983-4647 | (218) 983-3712 | ICWANOTICES@whiteearth-nsn.gov.
Nottawaseppi Huron Band of the Potawatomi, Michigan | Meg Fairchild, ICWA Representative, Social Services Director | 1485 Mno Bmadzewen Way, Fulton, MI 49052 | (269) 704-8341 | (269) 729-5920 | meg.fairchild@nhbp-nsn.gov.
Oneida Nation | Jennifer Berg-Hargrove/Kim Nicholls/ICWA Representative, Family Services Director/ICWA Contact | P.O. Box 365, Attn: Oneida Family Services, ICW Department, Oneida, WI 54155 | (920) 490-3700 | (920) 490-3820 | icw@oneidanation.org.
Pokagon Band of Potawatomi Indians, Michigan & Indiana | Mark Pompey, Social Services Director | 58620 Sink Rd., Dowagiac, MI 49047 | (269) 462-4277 | (269) 782-4295 | mark.pompey@pokagonband-nsn.gov.
Prairie Island Indian Community in the State of Minnesota | Markie Bellanger, Enrollment Clerk | 5636 Sturgeon Lake Rd., Welch, MN 55089 | (651) 385-4126 |  | enrollmentclerk@piic.org.
Red Cliff Band of Lake Superior Chippewa Indians of Wisconsin | Juliet Means, Indian Child Welfare Director | 88455 Pike Rd., Bayfield, WI 54814 | (715) 779-3747 |  | juliet.means@redcliff-nsn.gov.
Red Lake Band of Chippewa Indians, Minnesota | Red Lake Nation ICWA, Attn: ICWA Unit | 2000 Aldrich Ave S, Minneapolis, MN 55405 | (218) 407-5844 |  | ICWA@redlakenation.org.
Sac and Fox Tribe of the Mississippi in Iowa | Mylene Wanatee, Director of Family Services | P.O. Box 245, Tama, IA 52339 | (641) 484-4444 | (641) 484-2103 | mylene.wanatee@meskwaki-nsn.gov.
Saginaw Chippewa Indian Tribe of Michigan | Alexandria Mayo and Carrie Heron, Director/ICWA Worker | 7500 E Soaring Eagle Blvd., Mt. Pleasant, MI 48858 | (989) 775-4901 | (989) 775-4912 | icwa@sagchip.org.
Sault Ste. Marie Tribe of Chippewa Indians, Michigan | Melissa VanLuven, ICWA Program Director | 2218 Shunk Rd., Sault Ste., Marie, MI 49783 | (906) 632-5250 | (906) 632-5266 | ICWA-MIFPA-Contacts@saulttribe.net.
Shakopee Mdewakanton Sioux Community of Minnesota | Lisa Tittle, ICWA Contact | 2330 Sioux Trail NW, Prior Lake, MN 55372 | (952) 496-6163 |  | ICWA@shakopeedakota.org.
Sokaogon Chippewa Community, Wisconsin | Mandi VanZile or Michele Shawano, Director Indian Child Welfare/Family Services Director | 3051 Sand Lake Rd., Crandon, WI 54520 | (715) 478-6423 | (715) 478-0692 | Mandi.eernisse@scc-nsn.gov.
St. Croix Chippewa Indians of Wisconsin | Elizabeth Lowe, ICWA Representative, Indian Child Welfare Director | 24663 Angeline Ave., Webster, WI 54893 | (715) 214-2940 | (715) 349-8665 | elizabethl@stcroixojibwe-nsn.gov.
Stockbridge Munsee Community, Wisconsin | Natalie Minshell and Crystal Malone, ICWA Contact | W12802 County A, Bowler, WI 54416 | (715) 793-4580 | (715) 793-1312 | Natalie.Minshell@mohican-nsn.gov.
Upper Sioux Community, Minnesota | Jamie Preuss, Social Services Director | P.O. Box 147, 5744 Hwy. 67, Granite Falls, MN 56241 | (320) 564-6319 | (320) 564-2550 | jamiep@uppersiouxcommunity-nsn.gov.

6. Navajo Region

Navajo Regional Director, Navajo Regional Office, P.O. Box 1060, Gallup, NM 87305; Telephone: (505) 863-8314, Fax: (505) 863-8324.

Navajo Nation, Arizona, New Mexico & Utah | Crescentia Tso, ICWA Program Manager | P.O. Box 769, Saint Michaels, AZ 86511 | (928) 871-7006 | (928) 871-7604 | crescentiatso@navajo-nsn.gov.

7. Northwest Region

Northwest Regional Director, 911 NE 11th Ave., Portland, OR 97232; Telephone: (503) 231-6702; Fax (503) 231-2201.

Burns Paiute Tribe | James St. Martin, Social Services Director | 100 Pasigo St., Burns OR 97720 | (541) 573-8004 | (541) 573-4217 | James.StMartin@burnspaiute-nsn.gov.
Coeur D'Alene Tribe | Toni Whitman, ICW Program Manager | P.O. Box 408, 1120 B St., Plummer, ID 83851 | (208) 686-0675 | (208) 686-2059 | toni.whitman@cdatribe-nsn.gov.
Confederated Salish and Kootenai Tribes of the Flathead Reservation | Myra Harris, ICWA Worker | P.O. Box 278, 42487 Complex Blvd., Pablo, MT 59821 | (406) 675-2700 |  | myra.harris@cskt.org.
Confederated Tribes and Bands of the Yakama Nation | Jessica Rammelsberg & Gloria “Cassey” Aranda, Prosecutor & Program Manager | P.O. Box 151, Attn: Prosecutor's Office, Toppenish, WA 98948 | (509) 865-5121 |  | Jessica_Rammelsberg@yakama.com.
Confederated Tribes of Siletz Indians of Oregon | Amanda Barnhart, Family Services Program Administrator | P.O. Box 549, Siletz, OR 97380 | (541) 444-8236 | (541) 444-2307 | amandab@ctsi.nsn.us.
Confederated Tribes of the Chehalis Reservation | Frances Pickernell, Director of Social Services | P.O. Box 536, 420 Howanut Rd., Oakville, WA 98568 | (360) 709-1754 | (360) 273-5207 | fpickernell@chehalistribe.org.
Confederated Tribes of the Colville Reservation | Buffy Nicholson, Children and Family Services Director | P.O. Box 150, 21 Colville St., Nespelem, WA 99155-011 | (509) 634-2764 | (509) 634-2633 | buffy.nicholson@colvilletribes.com.
Confederated Tribes of the Coos, Lower Umpqua and Siuslaw Indians | Shayne Platz and Kelly Bradley, Lead ICWA Case Manager and Social Services Director | 1245 Fulton Ave., Coos Bay, OR 97420 | (541) 297-3450 | (541) 304-2180 | splatz@ctclusi.org.
Confederated Tribes of the Grand Ronde Community of Oregon | Donna Johnson, ICWA Intake | 9615 Grand Ronde Rd., Grand Ronde, OR 97347 | (503) 879-4529 | (503) 879-2142 | donna.johnson@grandronde.org.
Confederated Tribes of the Umatilla Indian Reservation | Garrett Brown, Attorney | 46411 Timine Way, Pendleton, OR 97801 | (541) 429-7403 |  | GarrettBrown@ctuir.org.
Confederated Tribes of the Warm Springs Reservation of Oregon | Cyrille Mitchell, CPS Director | P.O. Box C, Warm Springs, OR 97761 | (541) 553-3209 | (541) 553-3281 | Cyrille.mitchell@wstribes.org.
Coquille Indian Tribe | Roni Jackson, ICWA Caseworker | 600 Miluk Dr., P.O. Box 3190, Coos Bay, OR 97420 | (541) 888-9494 | (541) 888-0673 | ronijackson@coquilletribe.org.
Cow Creek Band of Umpqua Tribe of Indians | Michele Moore, Human Services Director | 2371 NE Stephens St., Suite 100, Roseburg, OR 97470 | (541) 643-8241 | (541) 677-5565 | mmoore@cowcreek-nsn.gov.
Cowlitz Indian Tribe | Cowlitz Indian Tribe Attn: Tribal Attorney | P.O. Box 996, Ridgefield, WA 98642 | (360) 957-8876 |  | legal@cowlitz.org.
Hoh Indian Tribe | Kristina Currie | P.O. Box 2196, Forks, WA 98331 | (360) 374-6502 | (360) 374-5426 | britni.duncan@hohtribe-nsn.org.
Jamestown S'Klallam Tribe | Jessica Humphries & Dustin Brenske, Youth and ICW Program Supervisor/Deputy Director of Social Services | 1033 Old Blyn Hwy., Sequim, WA 98382 | (360) 460-0644 | (360) 681-4647 | jhumphries@jamestowntribe.org.
Kalispel Indian Community of the Kalispel Reservation | Kevin Stark, Camas Path Social Services Manager | 934 S Garfield Rd., Airway Heights, WA 99001 | (509) 789-7634 | (509) 789-7675 | kstark@kalispeltribe.com.
Klamath Tribes | Lisa Ruiz, Children & Family Service Program Manager | P.O. Box 436, Chiloquin, OR 97624 | (541) 783-2219 | (541) 783-7783 | Lisa.ruiz@klamathtribes.com.
Kootenai Tribe of Idaho | Desire Aitken, Council Member | P.O. Box 1269, Bonners Ferry, ID 83805 | (208) 267-3519 | (208) 267-2960 | desire@kootenai.org.
Lower Elwha Tribal Community | Vashti White, ICW Program Manager | 3080 Lower Elwha Rd., Port Angeles, WA 98363 | (360) 912-4210 | (866) 277-3141 | elwhaicw@elwha.org.
Lummi Tribe of the Lummi Reservation | Robert Ludgate, Child Welfare Program Manager | P.O. Box 1024, Ferndale, WA 98248 | (360) 384-2324 | (360) 384-2341 | LIBCCPS@lummi-nsn.gov.
Makah Indian Tribe of the Makah Indian Reservation | Crysandra Sones, Social Services Manager | P.O. Box 115, Neah Bay, WA 98357 | (360) 645-3270 | (360) 645-2806 | crysandra.sones@makah.com.
Muckleshoot Indian Tribe | Alexandria Cruz-James, Director of Human Services | 39015 172nd Ave. SE, Auburn, WA 98092 | (253) 876-3261 | (253) 876-3061 | alex.cruz@muckleshoot.nsn.us.
Nez Perce Tribe | Rebecca Lehman/Jackie McArthur, Director of Indian Child Welfare/Social Services Manager | 326 Agency Rd., P.O. Box 365, Lapwai, ID 83540 | (208) 621-4666 | (208) 843-9401 | rebeccal@nezperce.org.
Nisqually Indian Tribe | Amanda Andujar/Jasmine McDonald, Lead Case Worker/ICW Manager | 4820 She-Nah-Num Dr. SE, Olympia, WA 98513 | (360) 359-8690 | (360) 486-9555 | andujar.amanda@nisqually-nsn.gov.
Nooksack Indian Tribe | Montaine Healy-Green, Director, Nooksack Youth & Family Services | P.O. Box 157, Deming, WA 98244 | (360) 398-6557 | (360) 592-0167 | mhealy-green@nooksack-nsn.gov.
Northwestern Band of the Shoshone Nation | Courtney Muir, Tribal Benefits Coordinator | 2575 Commerce Way, Ogden, UT 84401 | (435) 734-2286 | (435) 734-0424 | cmuir@nwbshoshone.com.
Port Gamble S'Klallam Tribe | Cheryl Miller, Children and Family Services Director | 31912 Little Boston Rd. NE, Kingston, WA 98346 | (360) 297-9665 | (360) 297-9666 | cmiller@pgst.nsn.us.
Puyallup Tribe of the Puyallup Reservation | Marriah Betschart, ICW Director | 3009 E Portland Ave., Tacoma, WA 98404 | (253) 442-5368 | (253) 680-5769 | Marriah.E.Betschart@PuyallupTribe-nsn.gov.
Quileute Tribe of the Quileute Reservation | Sharon Millett, ICW Program Manager | P.O. Box 69, LaPush, WA 98350 | (360) 640-2428 |  | quileute.icw@quileutetribe.com.
Quinault Indian Nation | Amelia DeLaCruz, Social Services Manager | P.O. Box 189, Taholah, WA 98587 | (360) 276-8215 | (360) 276-4152 | icw@quinault.org.
Samish Indian Nation | Sarah Beach, Social Services Director | 715 Seafarer's Way, Suite 103, Anacortes, WA 98221 | (360) 298-0104 | (360) 299-4357 | sbeach@samishtribe.nsn.us.
Sauk-Suiattle Indian Tribe | Jade Boykin, ICW Family Services Specialist | 5318 Chief Brown Ln., Darrington, WA 98241 | (360) 436-2204 | (360) 436-2227 | icw@sauk-suiattle.com.
Shoalwater Bay Indian Tribe of the Shoalwater Bay Indian Reservation | Kathirine Horne, Director | P.O. Box 130, Tokeland, WA 98590 | (360) 267-8134 | (360) 267-0247 | khorne@shoalwaterbay-nsn.gov.
Shoshone-Bannock Tribes of the Fort Hall Reservation | Malissa Poog/Cheri Outcelt, Shoshone-Bannock Tribal Social Services Child Welfare Program | P.O. Box 306, Fort Hall, ID 83203 | (208) 478-3731 | (208) 478-3964 | Malissa.poog@sb-thhs.com.
Skokomish Indian Tribe | Denese LaClair, Health Director | 100 N Tribal Center Rd., Skokomish, WA 98584 | (360) 426-5755 | (360) 877-4121 | dlaclair@skokomish.org.
Snoqualmie Indian Tribe | Colleen Studinarz, Snoqualmie Indian Child Welfare Program Manager | P.O. Box 969, Snoqualmie, WA 98065 | (425) 628-1439 | (425) 689-1272 | colleen.studinarz@snoqualmietribe.us.
Spokane Tribe of the Spokane Reservation | Matthew Sam-Thornhill, Health & Human Services Director | P.O. Box 540, 6228 E Old School Rd., Wellpinit, WA 99040 | (509) 299-8014 | (509) 258-4480 | matthew.thornhill@SpokaneTribe.com.
Squaxin Island Tribe of the Squaxin Island Reservation | Jennifer L. Cookston, Family Services Director | 10 SE Squaxin Lane, Shelton, WA 98584-9200 | (360) 280-8015 | (360) 427-2652 | Jcookston@squaxin.us.
Stillaguamish Tribe of Indians of Washington | Megan Cooper, Director | P.O. Box 3782, 17014 59th Ave. NE., Arlington, WA 98223 | (360) 572-3550 | (360) 435-7824 | icw@stillaguamish.com.
Suquamish Indian Tribe of the Port Madison Reservation | Heather Zaiss, Tribal Child Welfare Director | P.O. Box 498, Suquamish, WA 98392 | (360) 900-7009 | (360) 697-6774 | hzaiss@suquamish.nsn.us.
Swinomish Indian Tribal Community | Tracy Parker, Swinomish Family Services Coordinator | 17337 Reservation Rd., LaConner, WA 98257 | (360) 466-7222 | (360) 466-1632 | tparker@swinomish.nsn.us.
Tulalip Tribes of Washington | Sara Fitzpatrick, Lead ICW Worker | 2828 Mission Hill Rd., Tulalip, WA 98271 | (360) 716-4059 | (360) 716-0750 | sfitzpatrick@tulaliptribes-nsn.gov.
Upper Skagit Indian Tribe | Felice Keegahn, Indian Child Welfare Coordinator | 25944 Community Plaza Way, Sedro Woolley, WA 98284 | (360) 854-7077 | (360) 854-7125 | felicek@upperskagit.com.

8. Pacific Region

Pacific Regional Director, BIA, Federal Building, 2800 Cottage Way, Room W-2820, Sacramento, CA 95825; Telephone: (916) 978-6000; Fax: (916) 978-6055.

Agua Caliente Band of Cahuilla Indians of the Agua Caliente Indian Reservation, California | Jeff Grubbe, Chairman | 5401 Dinah Shore Dr., Palm Springs, CA 92264 | (760) 699-6919 | (760) 699-6863 | jplata@aguacaliente.net.
Alturas Indian Rancheria, California | Phillip Del Rosa | P.O. Box 340, Alturas, CA 96101 | (541) 941-2324 | (530) 223-4165 | air530@yahoo.com.
Augustine Band of Cahuilla Indians, California | Heather Haines, Tribal Operations Manager | P.O. Box 846, Coachella, CA 92236 | (760) 398-4722 | (760) 368-4252 | hhaines@augustinetribe.com.
Bear River Band of the Rohnerville Rancheria, California | Josefina Cortez, Chairwoman | 266 Keisner Rd., Loleta, CA 95551 | (707) 502-8731 | (707) 875-7229 | josefinacortez@brb-nsn.gov.
Berry Creek Rancheria of Maidu Indians of California | Kim Relph-Smith, ICWA Director/Social Worker | 5 Tyme Way, Oroville, CA 95966 | (530) 712-7137 | (530) 534-0343 | krsmith@berrycreekrancheria.com.
Big Lagoon Rancheria, California | Virgil Moorehead, Chairperson | P.O. Box 3060, Trinidad, CA 95570 | (707) 826-2079 | (707) 826-0495 | vmoorehead@earthlink.net.
Big Pine Paiute Tribe of the Owens Valley | Cheryl Levine, Tribal Administrator | P.O. Box 700, 825 S Main St., Big Pine, CA 93513 | (760) 938-2003 | (760) 938-2942 | c.levine@bigpinepaiute.org.
Big Sandy Rancheria of Western Mono Indians of California | Elizabeth Taylor, ICWA Representative | P.O. Box 337, Auberry, CA 93602 | (559) 374-0066 |  | etaylor@bsrnation.com.
Big Valley Band of Pomo Indians of the Big Valley Rancheria, California | ICWA Representative | 2726 Mission Rancheria Rd., Lakeport, CA 95453 | (707) 263-3924 | (707) 533-2941 | resparza@big-valley.net.
Bishop Paiute Tribe | Anonda Nelson, ICWA Specialist | 50 Tu Su Lane, Bishop, CA 93514 | (760) 873-7799 | (760) 873-3529 | Anonda.Nelson@bishoppaiute.org.
Blue Lake Rancheria, California | Claudia Brundin, Chairperson | P.O. Box 428, Blue Lake, CA 95525 | (707) 668-5101 | (707) 668-4272 | lalbright@bluelakerancheria-nsn.gov.
Bridgeport Indian Colony | John Glazier, Tribal Chair | 355 Sage Brush Dr., Bridgeport, CA 93517 | (760) 932-7083 | (760) 932-7846 | chair@bridgeportindiancolony.com.
Buena Vista Rancheria of Me-Wuk Indians of California | Christina Pimental, Receptionist | 1418 20th St., Suite 200, Sacramento, CA 95811 | (916) 491-0011 | (916) 491-0012 | christina@BuenaVistaTribe.com.
Cabazon Band of Cahuilla Indians | Doug Welmas, Chairman | 84-245 Indio Springs Pkwy, Indio, CA 92203 | (760) 342-2593 | (760) 347-7880 | nmarkwardt@cabazonindians-nsn.gov.
Cachil DeHe Band of Wintun Indians of the Colusa Indian Community of the Colusa Rancheria, California | Barbie Buchanan, Director of Community Services | 3730 Highway 45, Colusa, CA 95932 | (530) 458-6576 | (530) 458-8061 | bbuchanan@colusa-nsn.gov.
Cahto Tribe of the Laytonville Rancheria | Mary J. Norris, Chairperson | P.O. Box 1239, Laytonville, CA 95454 | (707) 984-6197 | (707) 984-6201 | chairman@cahto.org.
Cahuilla Band of Indians | Whitney Liera, Child and Family Services Specialist | 52701 CA-371, Anza, CA 92539 | (951) 795-8672 | (951) 763-2808 | lieraw@cahuilla.net.
California Valley Miwok Tribe, California | DOI/Bureau of Indian Affairs | 2800 Cottage Way, Rm. W-2820, Sacramento, CA 95825 | (916) 978-6000 | (916) 978-6099
Campo Band of Diegueno Mission Indians of the Campo Indian Reservation, California | Southern Indian Health Council, Kassandra Mason | 4058 Willow Rd., Alpine, CA 91901 | (619) 445-1188 | (619) 659-9782 | kmason@sihc.org.
Capitan Grande Band of Diegueno Mission Indians of California (Barona Group of Capitan Grande Band of Mission Indians of the Barona Reservation, California; Viejas (Baron Long) Group of Capitan Grande Band of Mission Indians of the Viejas Reservation, California) | Southern Indian Health Council, Kassandra Mason | 4058 Willow Rd., Alpine, CA 91901 | (619) 445-1188 | (619) 659-9782 | kmason@sihc.org.
Cedarville Rancheria, California | Richard Lash, Chairperson | 300 West 1st St., Alturas, CA 96101 | (530) 233-3969 | (530) 233-4776 | cr.munholand@gmail.com.
Cher-Ae Heights Indian Community of the Trinidad Rancheria, California | Angela Sundberg, Social Services Director | P.O. Box 630, Trinidad, CA 95570 | (707) 677-0211 | (707) 677-3921 | asundberg@trinidadrancheria.com.
Chicken Ranch Rancheria of Me-Wuk Indians of California | Lloyd Mathiesen, Chairman | P.O. Box 1159, Jamestown, CA 95327 | (209) 984-9066 | (209) 984-5606 | chixrnch@mlode.com.
Cloverdale Rancheria of Pomo Indians of California | Patricia Mermosillo, Chairperson | 555 S Cloverdale Blvd., Cloverdale, CA 95425 | (707) 894-5775 | (707) 894-5727
Cold Springs Rancheria of Mono Indians of California | Desiree Lewis, Tribal Administrator | P.O. Box 209, 32861 Sycamore Rd., Tollhouse, CA 93667 | (559) 214-1738 | (559) 855-4445 | Desiree.Lewis@coldspringsrancheria.gov.
Coyote Valley Band of Pomo Indians of California | Josephine “Josie” Pady, ICWA Coordinator | 7601 North State St., Redwood Valley, CA 95470 | (707) 472-2242 | (707) 463-8956 | icwa@coyotevalley-nsn.gov.
Dry Creek Rancheria Band of Pomo Indians, California | Liz Elgin DeRouen, Executive Director | 2525 Cleveland Ave., Suite H, Santa Rosa, CA 95403 | (707) 463-2644 | (707) 463-8956 | liz@icfppp.net.
Elem Indian Colony of Pomo Indians of the Sulphur Bank Rancheria, California | Augustin Garcia, Chairperson | P.O. Box 757, Lower Lake, CA 95457 | (707) 994-3400 | (707) 994-3408 | agarcia@elemindiancolony.com.
Elk Valley Rancheria, California | Dale Miller, Chairman | 2332 Howland Hill Rd., Crescent City, CA 95531 | (707) 464-4680 | (707) 464-4519 | swoods@elk-valley.com.
Enterprise Rancheria of Maidu Indians of California | Shari Goodwin (Ghalayini), ICWA Director | 2133 Montevista Ave., Oroville, CA 95965 | (530) 532-9214 | (530) 532-1768 | sharig@enterpriserancheria.org.
Ewiiaapaayp Band of Kumeyaay Indians, California | Kassandra Mason, Southern Indian Health Council | 4058 Willows Rd., Alpine, CA 91901 | (619) 445-1188 | (619) 659-9782 | kmason@sihc.org.
Federated Indians of Graton Rancheria, California | Greg Sarris, Chairman | 6400 Redwood Dr., Suite 300, Rohnert Park, CA 94928 | (707) 566-2288 | (707) 566-2291 |
Fort Bidwell Indian Community of the Fort Bidwell Reservation of California | Kathi Mathys, Enrollment/ICWA Specialist | P.O. Box 129, Fort Bidwell, CA 96112 | (530) 537-0114 | (530) 537-0108 | kathi.mathys@fbicc.com.
Fort Independence Indian Community of Paiute Indians of the Fort Independence Reservation, California | Norman Wilder, Chairperson | P.O. Box 67 or 131 N Hwy. 395, Independence, CA 93526 | (760) 878-5160 | (760) 878-2311 | receptionist@fortindependence.com.
Greenville Rancheria | Patty Allen, ICWA Coordinator | P.O. Box 279, Greenville, CA 95947 | (530) 284-7990 | (530) 284-7299 | pallen@greenvillerancheria.com.
Grindstone Indian Rancheria of Wintun-Wailaki Indians of California | Ronald Kirk, Chairman | P.O. Box 63, Elk Creek, CA 95939 | (530) 968-5365 | (530) 968-5366 | ronaldkirk1963@gmail.com.
Guidiville Rancheria of California | Merlene Sanchez, Tribal Chairperson | P.O. Box 339, Talmage, CA 95481 | (707) 462-3682 | (707) 462-9183 | admin@guidiville.net.
Habematolel Pomo of Upper Lake, California | Sherry Treppa, Chairperson | 375 E Hwy. 20 Suite I, P.O. Box 516, Upper Lake, CA 95485 | (707) 275-0737 | (707) 275-0757 | aarroyosr@hpultribe-nsn.gov.
Hoopa Valley Tribe, California | Joe Davis, Chairperson | P.O. Box 1348, Hoopa, CA 95546 | (530) 625-4211 | (530) 625-4594 | hoopa.receptionist@gmail.com.
Hopland Band of Pomo Indians, California | Josephine Loomis, ICWA Social Case Manager | 3000 Shanel Rd., Hopland, CA 95449 | (707) 472-2100 | (707) 744-8643 | jloomis@hoplandtribe.com.
Iipay Nation of Santa Ysabel, California | Linda Ruis, Social Services Director | PO Box 701, Santa Ysabel, CA 92070 | (760) 765-0845 | (760) 765-0312 | lruis@iipaynation-nsn.gov.
Inaja Band of Diegueno Mission Indians of the Inaja and Cosmit Reservation, California | Social Services Manager | PO Box 406, Pauma Valley, CA 92061 | (760) 749-1410 | (760) 749-5518 | kkolb@indianhealth.com.
Ione Band of Miwok Indians of California | Sara A. Dutschke, Chairperson | P.O. Box 699, Plymouth, CA 95669 | (209) 245-5800 | (209) 245-6377 | info@ionemiwOK.net.
Jackson Band of Miwuk Indians | Adam Dalton, Chairperson | P.O. Box 1090, Jackson, CA 95642 | (209) 223-1935 | (209) 223-5366 | mmorla@jacksoncasino.com.
Jamul Indian Village of California | Kassandra Mason, Southern Indian Health Council | 4058 Willow Rd., Alpine, CA 91901 | (619) 445-1188 | (619) 659-9782 | kmason@sihc.org.
Karuk Tribe | Samala Maloney, Child Welfare Services Operations Administrator | P.O. Box 1207, 1519 S Oregon St., Yreka, CA 96097 | (530) 627-3452 | (503) 841-7107 | smaloney@karuk.us.
Kashia Band of Pomo Indians of the Stewarts Point Rancheria, California | Liz Elgin DeRouen, Executive Director | 2525 Cleveland Ave., Suite H, Santa Rosa, CA 95403 | (707) 463-2644 | (707) 463-8956 | liz@icfpp.net.
Kletsel Dehe Wintun Nation of the Cortina Rancheria | Charlie Wright, Chairman | P.O. Box 1630, Williams, CA 95987 | (530) 419-5058 | (530) 387-3109 | info@kdwn.org.
Koi Nation of Northern California | Darin Beltran, Chairperson | P.O. Box 3162, Santa Rosa, CA 95402 | (707) 575-5586 | (707) 575-5506 |
La Jolla Band of Luiseno Indians, California | Social Services Manager | P.O. Box 406, Pauma Valley, CA 92061 | (760) 749-5518 | (707) 749-5518 | kkolb@indianhealth.com.
La Posta Band of Diegueno Mission Indians of the La Posta Indian Reservation, California | Kassandra Mason, Southern Indian Health Council | 4058 Willow Rd., Alpine, CA 91901 | (619) 445-1188 | (619) 659-9782 | kmason@sihc.org.
Lone Pine Paiute-Shoshone Tribe | Richard Button & Kathy Brancroft, Chairperson & Enrollment Committee Chairperson | P.O. Box 747, Lone Pine, CA 93545 | (760) 876-1034 | (760) 876-4500 | chair@lppsr.org.
Los Coyotes Band of Cahuilla and Cupeno Indians, California | Social Services Manager | P.O. Box 406, Pauma Valley, CA 92061 | (760) 749-1410 | (760) 749-5518 | kkolb@indianhealth.com.
Lytton Rancheria of California | Liz Elgin DeRouen, Executive Director | 2525 Cleveland Ave., Suite H, Santa Rosa, CA 95403 | (707) 463-2644 | (707) 463-8956 | liz@icfpp.net.
Manchester Band of Pomo Indians of the Manchester Rancheria, California | Liz Elgin DeRouen, Executive Director | 2525 Cleveland Ave., Suite H, Santa Rosa, CA 95403 | (707) 463-2644 | (707) 463-8956 | liz@icfpp.net.
Manzanita Band of Diegueno Mission Indians of the Manzanita Reservation, California | Angela Elliott Santos, Chairperson | P.O. Box 1302, Boulevard, CA 91905 | (619) 766-4930 | (619) 766-4957 | ljbirdsinger@aol.com.
Mechoopda Indian Tribe of Chico Rancheria, California | Dennis Ramirez, Chairman | 125 Mission Ranch Blvd., Chico, CA 95926 | (530) 899-8922 | (530) 899-8517 | mit@mechoopda-nsn.gov.
Mesa Grande Band of Diegueno Mission Indians of the Mesa Grande Reservation, California | Social Services Manager | P.O. Box 406, Pauma Valley, CA 92061 | (760) 749-1410 | (760) 749-5518 | kkolb@indianhealth.com.
Middletown Rancheria of Pomo Indians of California | Ursula Simon, ICWA Director/Youth Coordinator | P.O. Box 1829, Middletown, CA 95461 | (707) 531-0378 | (707) 987-9091 | usimon@middletownrancheria.com.
Mooretown Rancheria of Maidu Indians of California | Benjamin Clark, Chairman | 1 Alverda Dr., Oroville, CA 95966 | (530) 533-3625 | (530) 533-3680 | lwinner@mooretown.org.
Morongo Band of Mission Indians, California | Legal Department | 12700 Pumarra Rd., Banning, CA 92220 | (951) 572-6016 | (951) 572-6108 | legal@morongo-nsn.gov.
Northfork Rancheria of Mono Indians of California | Elaine Bethel Fink & Tawanish Lavell, Chairperson & ICWA Representative | P.O. Box 929, North Fork, CA 93643 | (559) 877-2461 | (559) 877-2467 | nfrancheria@northforkrancheria-nsn.gov.
Pala Band of Mission Indians | Robert Smith, Chairman | 35008 Pala-Temecula Rd.—PMB-50, Pala, CA 92059 | (760) 891-3500 | (760) 891-3587 | morozco@palatribe.com.
Paskenta Band of Nomlaki Indians of California | Natasha Magana, Tribal Member at Large | P.O. Box 709, Corning, CA 96021 | (530) 528-3538 | (530) 528-3553 | office@paskenta.org.
Pauma Band of Luiseno Mission Indians of the Pauma & Yuima Reservation, California | Social Services Manager | P.O. Box 406, Pauma Valley, CA 92061 | (760) 749-1410 | (760) 749-5518 | kkolb@indianhealth.com.
Pechanga Band of Indians | Esmeralda Lomeli, Director of Pechanga Child & Family Services | 12705 Pechanga Rd., Temecula, CA 92592 | (951) 770-6106 | (951) 693-5543 | pcfs@pechanga-nsn.gov.
Picayune Rancheria of Chukchansi Indians of California | Orianna C. Walker, ICWA Director | P.O. Box 2226, Oakhurst, CA 93644 | (559) 412-5590 | (559) 440-6494 | owalker@chukchansitribe.net.
Pinoleville Pomo Nation, California | Clayton Freeman, ICWA Coordinator | 500 B Pinoleville Dr., Ukiah, CA 95482 | (707) 463-1454 | (707) 463-6601 | claytonf@pinoleville-nsn.gov.
Pit River Tribe, California (includes XL Ranch, Big Bend, Likely, Lookout, Montgomery Creek, and Roaring Creek Rancherias) | Percy Tejada, ICWA Coordinator | 36970 Park Ave., Burney, CA 96013 | (530) 335-5421 | (530) 335-3140 | icwa@pitrivertribe.org.
Potter Valley Tribe, California | Salvador Rosales, Chairman | 2251 South State St., Ukiah, CA 95482 | (707) 462-1213 | (707) 462-1240 | pottervalleytribe@pottervalleytribe.com.
Quartz Valley Indian Community of the Quartz Valley Reservation of California | Conrad Croy, ICWA Director | 13601 Quartz Valley Rd., Fort Jones, CA 96032 | (530) 468-5907 | (530) 468-5908 | Conrad.Croy@qvir-nsn.gov.
Ramona Band of Cahuilla, California | Joseph Hamilton, Chairman | P.O. Box 391670, Anza, CA 92539 | (951) 763-4105 | (951) 763-4325 |
Redding Rancheria, California | Jack Potter, Jr., Chairman | 2000 Redding Rancheria Rd., Redding, CA 96001 | (530) 225-8979 |  | hopew@redding-rancheria.com.
Redwood Valley or Little River Band of Pomo Indians of the Redwood Valley Rancheria California | Chris Piekarski, ICWA Coordinator | 3250 Rd. I “B” Building, Redwood Valley, CA 95470 | (707) 485-0361 | (707) 485-5726 | icwa@rvrpomo.net.
Resighini Rancheria, California | Fawn Murphy, Chairperson | P.O. Box 529, Klamath, CA 95548 | (707) 482-2431 | (707) 482-3425 | fawn.murphy@resighinirancheria.com.
Rincon Band of Luiseno Mission Indians of Rincon Reservation, California | Social Services Manager | P.O. Box 406, Pauma Valley, CA 92061 | (760) 749-1410 | (760) 749-5518 | kkolb@indianhealth.com.
Robinson Rancheria | Marsha Lee, ICWA Coordinator | P.O. Box 4015, Nice, CA 95464 | (707) 900-1456 | (707) 275-0235 |
Round Valley Indian Tribes, Round Valley Reservation, California | James Russ, President | 77826 Covelo Rd., Covelo, CA 95428 | (707) 983-6126 | (707) 983-6128 | president@council.rvit.org.
San Pasqual Band of Diegueno Mission Indians of California | Social Services Manager | P.O. Box 406, Pauma Valley, CA 92061 | (760) 749-1410 | (760) 749-5518 | kkolb@indianhealth.com.
Santa Rosa Band of Cahuilla Indians, California | Steven Estrada, Chairperson | P.O. Box 391820, Anza, CA 92539 | (951) 659-2700 | (951) 689-2228 | srtribaloffice@aol.com.
Santa Rosa Indian Community of the Santa Rosa Rancheria, California | Corina Villarreal, Director, Santa Rosa Rancheria Tachi Yokut Tribal Social Services | P.O. Box 8, 16835 Alkali Dr., Lemoore, CA 93245 | (559) 924-1278 | (559) 925-2931 | cvillarreal@tachi-yokut-nsn.gov.
Santa Ynez Band of Chumash Mission Indians of the Santa Ynez Reservation, California | Caren Romero, ICWA Representative | P.O. Box 539, 90 Via Juana Lane, Santa Ynez, CA 93460 | (805) 694-2671 | (805) 694-2771 | cromero@sythc.org.
Scotts Valley Band of Pomo Indians of California | Kathy Russ, ICWA Advocate | 1005 Parallel Dr., Lakeport, CA 95453 | (707) 263-4220 | (707) 263-4345 |
Sherwood Valley Rancheria of Pomo Indians of California | Melanie Rafanan and Travis Wright, Tribal Chairperson and ICWA Advocate | 190 Sherwood Hill Dr., Willits, CA 95490 | (707) 459-9690 | (707) 459-6936 | mrafanan@sherwoodband.com.
Shingle Springs Band of Miwok Indians, Shingle Springs Rancheria (Verona Tract), California | Regina Cuellar, Chairwoman | P.O. Box 1340, Shingle Springs, CA 95682 | (530) 698-1400 | (530) 384-8064 | tribalchairperson@ssband.org.
Soboba Band of Luiseno Indians, California | Alicia Golchuk, Director of Soboba Tribal Family Services | P.O. Box 487, San Jacinto, CA 92581 | (951) 487-0283 | (951) 487-1738 | agolchuk@soboba-nsn.gov.
Susanville Indian Rancheria, California | Arian Hart, Chairman | 745 Joaquin St., Susanville, CA 96130 | (530) 257-6264 | (530) 257-7986 | tribal.chairman@sir-nsn.gov.
Sycuan Band of the Kumeyaay Nation | Cody Martinez, Chairman | 1 Kwaaypaay Court, El Cajon, CA 92019 | (619) 445-2613 | (619) 445-1927 |
Table Mountain Rancheria | Leanne Walker-Grant, Chairperson | P.O. Box 410, Friant, CA 93626 | (559) 822-2587 | (559) 822-2693 |
Tejon Indian Tribe | Octavio Escobedo, Chairperson | 1731 Hasti Acres, Suite 108, Bakersfield, CA 93309 | (661) 834-8566 | (661) 834-8564 | office@tejontribe.net.
Timbisha Shoshone Tribe | Wallace Eddy, ICWA Representative | 621 W Line St., Suite 109, Bishop, CA 93514 | (760) 872-3614 | (760) 872-3670 | icwa@timbisha.com.
Tolowa Dee-ni' Nation | Dorothy Wait, CFS Director | 16299 Hwy. 101N, Smith River, CA 95567 | (707) 487-9255 | (707) 487-0137 | dwait@toloWA.com.
Torres Martinez Desert Cahuilla Indians, California | Thomas Tortez, Chairman | TMDCI 66-725 Martinez Rd., P.O. Box 1160, Thermal, CA 92274 | (760) 397-0300 | (760) 397-8300 | thomas.tortez@torresmartinez-nsn.gov.
Tule River Indian Tribe of the Tule River Reservation, California | Neil Peyron, Chairman | 340 N Reservation Rd., P.O. Box 589, Porterville, CA 93258 | (559) 781-4271 | (559) 781-4610 | Neil.Peyron@tulerivertribe-nsn.gov.
Tuolumne Band of Me-Wuk Indians of the Tuolumne Rancheria of California | Diane Carpenter, LMFT, ICWA Representative/Supervisor, Social Services Department | P.O. Box 699, Tuolumne, CA 95379 | (209) 928-5327 | (209) 928-1552 | diana@mewuk.com.
Twenty-Nine Palms Band of Mission Indians of California | Darrel Mike, Spokesman | 46-200 Harrison Pl., P.O. Box 2269, Coachella, CA 92236 | (760) 863-2444 | (760) 863-2449 |
United Auburn Indian Community of the Auburn Rancheria of California | Gene Whitehouse, Chairman | 10720 Indian Hill Rd., Auburn, CA 95603 | (530) 883-2390 | (530) 833-2380 | jbeck@auburnrancheria.com.
Utu Utu Gwaitu Paiute Tribe of the Benton Paiute Reservation, California | Shane Salque, Chairman | 25669 Hwy. 6, PMB 1, Benton, CA 93512 | (760) 933-2321 | (760) 933-2412 | shanesalque@hotmail.com.
Wilton Rancheria, California | Cheryl Douglas, Executive Director | 9728 Kent St., Elk Grove, CA 95624 | (916) 683-6000 | (916) 683-6015 | cdouglas@wiltonrancheria-nsn.gov.
Wiyot Tribe, California | Theodore Hernandez, Chairperson | 1000 Wiyot Dr., Loleta, CA 95551 | (707) 733-5055 | (707) 733-5601 | rpitts@wiyot.us.
Yocha Dehe Wintun Nation, California | James Kinter, Tribal Council Secretary | P.O. Box 18, Brooks, CA 95606 | (530) 796-3400 | (530) 796-2143 | icwa@yochadehe.gov.
Yuhaaviatam of San Manuel Nation | Corey Silva, Tribal Secretary | 26569 Community Center Dr., Highland, CA 92346 | (909) 864-8933 | (909) 864-0890 | Corey.Silva@sanmanuel-nsn.gov.
Yurok Tribe of the Yurok Reservation, California | Jessica Fawn Canez, Tribal Child Welfare and Behavioral Health Director | P.O. Box 1027, Klamath, CA 95548 | (707) 482-1350 | (707) 482-1368 | YurokICWA@yuroktribe.nsn.us.

9. Rocky Mountain Region

Rocky Mountain Regional Director, 2021 4th Ave. N, Billings, MT 59101; Telephone: (406) 247-7943; Fax: (406) 247-7976.

Assiniboine and Sioux Tribes of the Fort Peck Indian Reservation, Montana | Danna Runs Above, ICWA Coordinator | P.O. Box 1027, Poplar, MT 59255 | (406) 768-2308 | (406) 768-5658 | danna.runsabove@fortpecktribes.net.
Blackfeet Tribe of the Blackfeet Indian Reservation of Montana | Kathy Calf Boss Ribs, ICWA Coordinator | P.O. Box 588, Browning, MT 59417 | (406) 338-5171 | (406) 338-7726 | kcalfbossribs@blackfeetnation.com.
Chippewa Cree Indians of the Rocky Boy's Reservation, Montana | Jaynah Gopher, ICWA Case Manager | 96 Clinic Rd. No., Box Elder, MT 59521 | (406) 395-4092 | (406) 395-4042 | Jaynah@chippewa-cree.org.
Crow Tribe of Montana | Rebecca Buffalo, ICWA Contact | P.O. Box 340, Crow Agency, MT 59022 | (406) 679-2950 |  | RebecCAbuffalo@crow-nsn.gov.
Eastern Shoshone Tribe of the Wind River Reservation, Wyoming | Dallas Cando, ICWA Agent | P.O. Box 945, Fort Washakie, WY 82514 | (307) 332-6591 | (307) 332-6593 |
Fort Belknap Indian Community of the Fort Belknap Reservation of Montana | Myron L. Trottier, ICWA Case Manager | 656 Agency Main St., Harlem, MT 59526 | (406) 353-8328 | (406) 353-4634 | mtrottier@ftbelknap.org.
Little Shell Tribe of Chippewa Indians of Montana | Edith Colman, ICWA Case Manager | 615 Central Ave. W, Great Falls, MT 59404 | (406) 315-2400 | (406) 315-2401 | e.colman@lstribe.org.
Northern Arapaho Tribe of the Wind River Reservation, Wyoming | Shelley Mbonu, ICWA Director | P.O. Box 951, Riverton, WY 82501 | (307) 335-3957 | (307) 240-2256 | shelley.mbonu@northernarapaho.com.
Northern Cheyenne Tribe of the Northern Cheyenne Indian Reservation, Montana | Alaina Buffalo Spirit, ICWA Coordinator II | P.O. Box 128, Lame Deer, MT 59043 | (406) 477-4830 | (406) 477-8333 | alaina.buffalospirit@cheyennenation.com.

10. Southern Plains Region

Southern Plains Regional Director, P.O. Box 368, Anadarko, OK 73005; Telephone: (405) 247-6673 Ext. 217; Fax (405) 247-5611.

Absentee-Shawnee Tribe of Indians of Oklahoma | Shawnee Martinez, ICW Director | 105 N Kimberly Ave., Shawnee, OK 74801 | (405) 395-4492 | (405) 395-4490 | icw@astribe.com.
Alabama-Coushatta Tribe of Texas | Melissa Celestine, ICW Director | 571 State Park Rd., #56, Livingston, TX 77351 | (936) 563-1253 | (936) 563-1254 | celestine.melissa@actribe.org.
Apache Tribe of Oklahoma | ICW Director, Apache ICW Worker | P.O. Box 309, Carnegie, OK 73015 | (580) 654-6340 |  | icw@kiowatribe.org.
Caddo Nation of Oklahoma | Kathy Butler, ICW | P.O. Box 487, Binger, OK 73009 | (405) 656-2344 |  | kbutler@mycaddonation.com.
Cheyenne and Arapaho Tribes, Oklahoma | Kylee Wilson, ICW Coordinator | P.O. Box 27, Concho, OK 73022 | (405) 422-6195 | (405) 422-8249 | Kwilson@cheyenneandarapaho-nsn.gov.
Citizen Potawatomi Nation, Oklahoma | Ashlee May, ICW Director | 1601 S Gordon Cooper Dr., Shawnee, OK 74801 | (405) 878-4831 | (405) 878-4659 | Ashlee.may@potawatomi.org.
Comanche Nation, Oklahoma | Evelyn Mithlo-Turner, ICW Director | P.O. Box 908, Lawton, OK 73502 | (580) 492-1141 | (580) 699-5110 | Evelyn.Turner@Comanchenation.com.
Delaware Nation, Oklahoma | Sylvia Pinter, Social Services Director | P.O. Box 825, Anadarko, OK 73005 | (405) 247-2448 | (405) 247-5942 | spitner@delawarenation-nsn.gov.
Fort Sill Apache Tribe of Oklahoma | ICWA Coordinator | 43187 US Hwy. 281, Apache, OK 73006 | (580) 588-2298
Iowa Tribe of Kansas and Nebraska | Cina Akidawe, Family Services | 3313B Thrasher Rd., White Cloud, KS 66094 | (785) 595-3260 |  | Cdavis@iowas.org.
Iowa Tribe of Oklahoma | Brandi Goade, ICW Director | 335588 E 750 Rd., Perkins, OK 74059 | (405) 547-1091 | (405) 547-1060 | bgoade@iowanation.org.
Kaw Nation, Oklahoma | Nicholas Coble, ICW Caseworker | Drawer 50, Kaw City, OK 74641 | (580) 269-2003 | (580) 269-2113 | ncoble@kawnation.com.
Kickapoo Traditional Tribe of Texas | Mercedes Arredondo, ICW Director | 2212 Rosita Valley Rd., Eagle Pass, TX 78852 | (830) 773-2105 |  | Mercedesa.arredondo@ktttribe.org.
Kickapoo Tribe of Indians of the Kickapoo Reservation in Kansas | Jacob Castillo, ICWA Director | 824 111th Dr., Horton, KS 66439 | (785) 486-2131 |  | jacob.castillo@ktik-nsn.gov.
Kickapoo Tribe of Oklahoma | Tracey Humphrey, Indian Child Welfare Director | P.O. Box 469, McLoud, OK 74851 | (405) 964-4227 | (405) 964-5431 | Tracey.Humphrey@okkt.net.
Kiowa Indian Tribe of Oklahoma | Davetta Geimausaddle, ICW Director | P.O. Box 369, Carnegie, OK 73015 | (580) 654-6341 |  | ICW@kiowatribe.org.
Otoe-Missouria Tribe of Indians, Oklahoma | Andrea Kihega, Social Services Director | 8151 Hwy. 177, Red Rock, OK 74651 | (580) 723-4466 | (580) 352-6065 | akihega@omtribe.org.
Pawnee Nation of Oklahoma | Amanda Farren, ICWA Director | P.O. Box 470, Pawnee, OK 74058 | (918) 762-3261 | (918) 762-6449 | afarren@pawneenation.org.
Ponca Tribe of Indians of Oklahoma | Jamie Metcalf, ICW Director | 101 White Eagle, Ponca City, OK 74601 | (580) 463-0133 | (580) 763-0134 | Jamie.metcalf@ponca-nsn.gov.
Prairie Band Potawatomi Nation | Julia Alfers, ICW Director | 16281 Q. Rd., Mayetta, KS 66509 | (785) 966-8325 | (785) 966.290 |
Sac and Fox Nation of Missouri in Kansas and Nebraska | Pam Burden, ICW Director | 305 N Main St., Reserve, KS 66434 | (785) 742-4708 | (785) 288-1163 | Pam.Burden@sacandfoxKS.com.
Sac and Fox Nation, Oklahoma | Karen Hamilton, ICW Director | 215 N Harrison, Box 246, Shawnee, OK 74801 | (918) 968-3526 | (405) 395-0858 | karen.hamilton@sacandfoxnation-nsn.gov.
Tonkawa Tribe of Indians of Oklahoma | Christi Gonzalez, ICW Director | P.O. Box 70, Tonkawa, OK 74653 | (580) 628-7025 | (580) 628-7025 | cgonzalez@tonkwatribe.com.
Wichita and Affiliated Tribes (Wichita, Keechi, Waco & Tawakonie), Oklahoma | Joan Williams, ICW Director | P.O. Box 729, Anadarko, OK 73005 | (405) 247-8627 | (405) 247-3256 | joan.williams@wichitatribe.com.

11. Southwest Region

Southwest Regional Director, 1001 Indian School Rd. NW, Albuquerque, NM 87104; Telephone: (505) 563-3103; Fax: (505) 563-3101.

Jicarilla Apache Nation, New Mexico | Jicarilla Apache Nation ICWA Program, ICWA Program | P.O. Box 1520, Dulce, NM 87528 | (575) 759-1712
Mescalero Apache Tribe of the Mescalero Reservation, New Mexico | Augusta Williams, ICWA Case Manager | Box 227, Mescalero, NM 88340 | (575) 464-4334 | (575) 464-0433 | awilliams@mescaleroapachetribe.com.
Ohkay Owingeh, New Mexico | Rochelle Thompson, ICWA Manager | P.O. Box 1187, 220 Popay Ave., Ohkay Owingeh, NM 87566 | (575) 852-6108 | (505) 692-0333 | rochelle.thompson@ohkay.org.
Pueblo of Acoma, New Mexico | Marsha Vallo/Tiffany Velasquez, Director/Child Welfare Coordinator | P.O. Box 354, Acoma, NM 87034 | (505) 552-5162 | (505) 552-0903 | mlvallo@poamail.org.
Pueblo of Cochiti, New Mexico | Amanda Rosetta, Interim Director, Director of Family Services/Tribal Court Administrator | P.O. Box 255, Cochiti Pueblo, NM 87072 | (505) 249-0601 | (505) 465-3173 | Amanda.rosetta@cochiti.org.
Pueblo of Isleta, New Mexico | Jacqueline Yalch, Social Services Director | P.O. Box 1270, Isleta, NM 87022 | (505) 869-2772 | (505) 869-7575 | Jacqueline.Yalch@isletapueblo.com.
Pueblo of Jemez, New Mexico | Annette Gachupin, Child Advocate | P.O. Box 340, Jemez Pueblo, NM 87024 | (575) 834-7117 | (575) 834-7103 | agachupin@jemezpueblo.us.
Pueblo of Laguna, New Mexico | Tracy Zamora, Social Service Program Manager | Social Services Department, P.O. Box 194, Laguna, NM 87026 | (505) 552-6513 | (505) 552-6387 | tzamora@pol-nsn.gov.
Pueblo of Nambe, New Mexico | Julie Bird, ICWA Manager | 15A NP 102 West, Santa Fe, NM 87506 | (505) 445-4446 | (505) 455-4449 | ICWA@nambepueblo.org.
Pueblo of Picuris, New Mexico | Mia Pacheco, ICWA Specialist | P.O. Box 127, Penasco, NM 87553 | (575) 587-2519 | (575) 587-1003 | icwa@picurispueblo.org.
Pueblo of Pojoaque, New Mexico | Arthur Malone, Case Manager/ICWA Specialist | 58 Cities of Gold Rd., Suite 5, Santa Fe, NM 87506 | (505) 455-0238 | (505) 455-2363 | amalone@pojoaque.org.
Pueblo of San Felipe, New Mexico | Darlene J. Valencia and Chasity Sanchez, Family Services Director/ICWA Representative | P.O. Box 4339, San Felipe Pueblo, NM 87001 | (505) 771-9900 | (505) 771-9978 | dvalencia@sfpueblo.com.
Pueblo of San Ildefonso, New Mexico | Lenora Arrietta, ICWA Manager/Family Advocate | 02 Tunyo Po, Santa Fe, NM 87506 | (505) 455-4164 | (505) 455-7351 | icwamanager@sanipueblo.org.
Pueblo of Sandia, New Mexico | Shannon Montoya, Tribal Administrator | 481 Sandia Loop, Bernalillo, NM 87004 | (505) 867-3317 |  | smontoya@sandiapueblo.nsn.us.
Pueblo of Santa Ana, New Mexico | Joscelyn Lister, Social Services Case Worker | 02 Dove Rd., Santa Ana Pueblo, NM 87004 | (505) 771-6768 | (505) 771-6537 | Joscelyn.lister@santaana-nsn.gov.
Pueblo of Santa Clara, New Mexico | Terri Chavarria or Anne Gutierrez, Director of Social Services/Secretary | P.O. Box 580, Espanola, NM 87532 | (505) 753-0419 | (505) 753-0420 | tchavarria@santaclarapueblo.org.
Pueblo of Taos, New Mexico | Ezra Bayles, Director | P.O. Box 1846, Taos, NM 87571 | (575) 758-7824 | (575) 758-3346 | ebayles@taospueblo.com.
Pueblo of Tesuque, New Mexico | Donna Quintana, ICWA Coordinator | Box 360, T Route 42, Santa Fe, NM 87506 | (505) 469-0173 | (505) 820-7780 | donna.quintana@pueblooftesuque.org.
Pueblo of Zia, New Mexico | Social Services ICWA Department | 135 Capital Square Dr., Zia Pueblo, NM 87053 | (505) 337-2138 | (505) 867-3308 | socialservices@ziapueblo.org.
Santo Domingo Pueblo | Doris Mina or Virginia Tenorio, Family Services Director & ICWA Representative | P.O. Box 129, Santo Domingo, NM 87052 | (505) 465-0630 | (505) 465-2554 | Virginia.Tenorio@kewa-nsn.us.
Southern Ute Indian Tribe of the Southern Ute Reservation, Colorado | Kellie Yazzie, ICWA Social Worker | MS 53, P.O. Box 737, Ignacio, CO 81137 | (970) 563-2332 | (970) 563-4854 | icwa@southernute-nsn.gov.
Ute Mountain Ute Tribe | Janet Silversmith, ICWA Case Worker | P.O. Box 309, Towaoc, CO 81334 | (970) 749-9186 |  | jsilversmith@utemountain.org.
Ysleta del Sur Pueblo | Leah Lopez, LMSW Social Services Coordinator | 9314 Juanchido Ln., El Paso, TX 79907 | (915) 860-6170 | (915) 242-6556 | lopezl@ydsp-nsn.gov.
Zuni Tribe of the Zuni Reservation, New Mexico | Mikaela Epaloose, ICWA Worker | P.O. Box 339, Zuni, NM 87327 | (505) 782-7166 | (505) 782-7221 | Mikaela.Epaloose@ashiWIorg.

12. Western

Western Regional Director, 2600 North Central Ave., 4th Floor Mailroom, Phoenix, AZ 85004; Telephone: (602) 379-6600; Fax: (602) 379-4413.

Ak-Chin Indian Community | Dorissa R. Garcia, Enrollment Coordinator | 42507 W Peters & Nall Rd., Maricopa, AZ 85138 | (520) 568-1074 | (520) 568-1079 | dgarcia@ak-chin.nsn.us.
Chemehuevi Indian Tribe of the Chemehuevi Reservation, California | Sheila Nau, ICWA Director | P.O. Box 1976, Havasu Lake, CA 92363 | (760) 858-5426 | (760) 858-5428 | icwa@cit-nsn.gov.
Cocopah Tribe of Arizona | Rafael D. Morales, Jr., ICWA Specialist | 14515 S Veterans Dr., Somerton, AZ 85350 | (928) 627-3729 | (928) 627-3316 | moralesr@cocopah.com.
Colorado River Indian Tribes of the Colorado River Indian Reservation, Arizona and California | Rebecca Loudbear, Attorney General | 26600 Mohave Rd., Parker, AZ 85344 | (928) 669-1271 | (928) 669-5675 | rebecCAloudbear@crit-nsn.gov.
Confederated Tribes of the Goshute Reservation, Nevada and Utah | Jeanine Hooper, Social Services/ICWA Director | HC 61, Box 6104 Ext, Ibapah, UT 84034 | (435) 234-1138 | (435) 234-1219 | jeanine.hooper@ctgr.us.
Duckwater Shoshone Tribe of the Duckwater Reservation, Nevada | Debbie O'Neil, Social Services Director/Health Resource Analyst & Benefit Coordinator | P.O. Box 140087, Duckwater, NV 89314-0142 | (775) 863-0222 | (775) 863-0142 | debbie.oneil@ihs.gov.
Ely Shoshone Tribe of Nevada | Georgia Valdez, Social Services Worker | 505 S Pioche Hwy., Ely, NV 89301 | (775) 289-3013 | (775) 289-3833 | dorda123@yahoo.com.
Fort McDermitt Paiute and Shoshone Tribes of the Fort McDermitt Indian Reservation, Nevada and Oregon | Elena Dave, ICWA Advocate | P.O. Box 69, McDermitt, NV 89421 | (775) 532-8263 | (775) 532-8060 | elena.dave@fmpst.org.
Fort McDowell Yavapai Nation, Arizona | Tamara Tuia, Director of Wassaja Family Services | 16420 N Fort McDowell Rd., Fort McDowell, AZ 85264 | (480) 789-7990 | (855) 674-0898 | ttuia@fmyn.org.
Fort Mojave Indian Tribe of Arizona, California & Nevada | Cornel Williams, Interim Director | 500 Merriman Ave., Needles, CA 92363 | (928) 346-1550 | (928) 346-1552 | cornelwilliams@ftmojave.com.
Gila River Indian Community of the Gila River Indian Reservation, Arizona | Christina R. Lopez, Child & Family Welfare Administrator | P.O. Box 427, Sacaton, AZ 85147 | (520) 562-3396 | (520) 562-3633 | christina.lopez@gric.nsn.us.
Havasupai Tribe of the Havasupai Reservation, Arizona | Rita Uqualla, ICWA Director | P.O. Box 10, Supai, AZ 86435 | (928) 433-8153 | (928) 433-8130 | ritauqualla03@gmail.com.
Hopi Tribe of Arizona | Gloria Grover, ICWA Coordinator | P.O. Box 123, Kykotsmovi, AZ 86039 | (928) 205-1683 |  | GGrover@hopi.nsn.us.
Hualapai Indian Tribe of the Hualapai Indian Reservation, Arizona | Idella Keluche, ICWA Coordinator | P.O. Box 480, Peach Springs, AZ 86434 | (928) 769-2383 | (928) 769-2659 | ikeluche@hualapai-nsn.gov.
Kaibab Band of Paiute Indians of the Kaibab Indian Reservation, Arizona | Jennie K. Kalauli, Social Services Director | HC 65, Box 2, Fredonia, AZ 86022 | (928) 643-8320 | (888) 422-4037 | jkalauli@kaibabpaiute-nsn.gov.
Las Vegas Tribe of Paiute Indians of the Las Vegas Indian Colony, Nevada | Fabian Solis, Health & Human Service Director | 1257 Paiute Circle, Las Vegas, NV 89106 | (702) 382-0784 | (702) 384-5272 | fsolis@lvpaiute.com.
Lovelock Paiute Tribe of the Lovelock Indian Colony, Nevada | Maribel Morales, ICWA Caseworker | 201 Bowean St., Lovelock, NV 89419 | (775) 273-7861 | (775) 273-3802 | icwa@lovelocktribe.com.
Moapa Band of Paiute Indians of the Moapa River Indian Reservation, Nevada | Debrah Rocco, Social Services Director, | P.O. Box 308, Moapa, NV 89025 | (702) 865-2708, | (702) 864-0408 | socialservices@moapahbandofpaitues.org.
Paiute Indian Tribe of Utah (Cedar Band of Paiutes, Kanosh Band of Paiutes, Koosharem Band of Paiutes, Indian Peaks Band of Paiutes, and Shivwits Band of Paiutes) | Sharon Johnson, Family Services Manager | 440 North Paiute Dr., Cedar City, UT 84721 | (435) 586-1112 | (435) 867-1516 | sjohnson@fourpointshealth.org.
Paiute-Shoshone Tribe of the Fallon Reservation and Colony, Nevada | Tashina Salas-Treadway, Social Services Manager | 1007 Rio Vista Dr., Fallon, NV 89406 | (775) 423-1215 | (775) 423-8960 | yfsmanager@fpst.org.
Pascua Yaqui Tribe of Arizona | Marissa R. Quiroz, Paralegal | 7777 S Camino Huivism—Bldg. C, Tucson, AZ 85757 | (520) 883-5113 | (520) 883-5084 | Marissa.Quiroz2@pascuayaqui-nsn.gov.
Pyramid Lake Paiute Tribe of the Pyramid Lake Reservation, Nevada | Barbara Bennett, Director | P.O. Box 256, Nixon, NV 89424 | (775) 574-0147 |  | bbennett@plpt.nsn.us.
Quechan Tribe of the Fort Yuma Indian Reservation, California & Arizona | Barbara Blue White, ICWA Specialist | P.O. Box 1899, Yuma, AZ 85366 | (760) 572-0201 | (760) 572-2099 | icwaspecialist@quechantribe.com.
Reno-Sparks Indian Colony, Nevada | Marcia Wadsworth, ICWA Administrator Assistant | 405 Golden Lane, Reno, NV 89502 | (775) 329-5071 | (775) 785-8758 | mwadsworth@rsic.org.
Salt River Pima-Maricopa Indian Community of the Salt River Reservation, Arizona | Allison Miller, ICWA Manager | 10005 E Osborn Rd., Scottsdale, AZ 85256 | (480) 362-7533 | (480) 362-5574 | allison.miller@srpmic-nsn.gov.
San Carlos Apache Tribe of the San Carlos Reservation, Arizona | Aaron Begay, ICWA Coordinator | P.O. Box 0, San Carlos, AZ 85550 | (928) 475-2313 | (928) 475-2342
San Juan Southern Paiute Tribe of Arizona | Mary Lou Boone, Enrollment Officer | 67 NW Maple St., Tuba City, AZ 86045 | (928) 212-9794 | (928) 233-8948 | m.boone@sanjuanpaiute-nsn.gov.
Shoshone-Paiute Tribes of the Duck Valley Reservation, Nevada | Tamara Ashley, Social Worker | P.O. Box 219, Owyhee, NV 89832 | (775) 208-3100 | (775) 757-2253 | ashley.tamara@shopai.org.
Skull Valley Band of Goshute Indians of Utah | Daniel Moon, Chairman | 407 Skull Valley Rd., Skull Valley, UT 84029 | (385) 405-0313 |  | danielm@svgoshutes.com.
Summit Lake Paiute Tribe of Nevada | Randi Lone Eagle, Tribal Chairwoman | 2255 Green Vista Dr., Suite 402, Sparks, NV 89431 | (775) 827-9670 | (775) 827-9678 | randi.loneeagle@summitlaketribe.org.
Te-Moak Tribe of Western Shoshone Indians of Nevada (Four constituent bands: Battle Mountain Band; Elko Band; South Fork Band and Wells Band) | Donna Hill, ATTG Coordinator/Acting Administrator | 37 Mountain View Dr., Battle Mountain, NV 89820 | (775) 635-2004 | (775) 635-8016 | coordinatorbmbc@hotmail.com.
Te-Moak Tribe of Western Shoshone Indians of Nevada (Four constituent bands: Battle Mountain Band; Elko Band; South Fork Band and Wells Band) | Christine Atine, Supervisory Social Worker | 21 Lee Unit #13, Spring Creek, NV 89815 | (775) 738-0586 | (775) 744-4523 | christine.atine@bia.gov.
Te-Moak Tribe of Western Shoshone Indians of Nevada (Four constituent bands: Battle Mountain Band; Elko Band; South Fork Band and Wells Band) | Ortencia M. Puhuyaoma, Indian Child Welfare Specialist | 1745 Silver Eagle Dr., Elko, NV 89801 | (775) 738-8889 | (775) 778-3397 | icwa@elkoband.org.
Te-Moak Tribe of Western Shoshone Indians of Nevada (Four constituent bands: Battle Mountain Band; Elko Band; South Fork Band and Wells Band) | Ady Prado, ICWA Specialist | P.O. Box 809, Wells, NV 89835 | (775) 242-9485 |  | wbc.WSS@gmail.com.
Tohono O'odham Nation of Arizona | Hue T. Le, Esq., Assistant Attorney General | P.O. Box 830, Sells, AZ 85634 | (520) 383-3410 | (520) 383-2689 | Hue.Le@tonation-nsn.gov.
Tonto Apache Tribe of Arizona | Christine Zuber, Social Worker | #30 Tonto Apache Reservation, Payson, AZ 85541 | (928) 474-5000 | (928) 474-9125 | llopez@tontoapache.org.
Ute Indian Tribe of the Uintah & Ouray Reservation, Utah | Tonja Willie, ICWA Research Coordinator | P.O. Box 925, Ft. Duchesne, UT 84026 | (435) 725-4054 | (435) 722-5030 | Tonjaw@utetribe.com.
Walker River Paiute Tribe of the Walker River Reservation, Nevada | Miranda J. Quintero, Social Services Director | P.O. Box 146, Schurz, NV 89427 | (775) 773-2058 | (775) 773-2096 | mquintero@wrpt.org.
Washoe Tribe of Nevada & California (Carson Colony, Dresslerville Colony, Woodfords Community, Stewart Community, & Washoe Ranches) | Stacy Stahl, Social Service Director | 919 Hwy., 935 S, Gardnerville, NV 89410 | (775) 265-7024 |  | stacy.stahl@washoetribe.us.
White Mountain Apache Tribe of the Fort Apache Reservation, Arizona | Cora Hinton, ICWA Representative | P.O. Box 1870, Whiteriver, AZ 85941 | (928) 338-4164 | (928) 338-1469 | chinton@wmat.us.
Winnemucca Indian Colony of Nevada | Haydyn Williams, ICWA Coordinator | 433 W Plumb Ln., Reno, NV 89509 | (775) 329-5800 | (775) 329-5819 | Haydyn.williams@winnemuccaindiancolony.org.
Yavapai-Apache Nation of the Camp Verde Indian Reservation, Arizona | Melissa Stevens, ICWA Caseworker | 2400 W Datsi St., Camp Verde, AZ 86322 | (928) 649-7108 | (928) 567-6832 | mstevens@yan-tribe.org.
Yavapai-Prescott Indian Tribe | Dale Sams, Administrator | 530 East Merritt, Prescott, AZ 86301 | (928) 515-7358 | (928) 515-7350 | dsams@ypit.com.
Yerington Paiute Tribe of the Yerington Colony and Campbell Ranch, Nevada | Nathaniel Landa, Human Services Director | 171 Campbell Ln., Yerington, NV 89447 | (775) 783-0200 | (775) 463-5929 | nlanda@ypt-nsn.gov.
Yomba Shoshone Tribe of the Yomba Reservation, Nevada | Norma Moyle, Social Worker | 311 E Washington St., Carson City, NV 89701 | (775) 887-3500 | (775) 887-3506 | norma.moyle@bia.gov.

Paperwork Reduction Act of 1995

This information collection is authorized by OMB Control Number 1076-0186, Indian Child Welfare Act Proceedings in State Court, which expires March 31, 2026.

Bryan Newland,
Assistant Secretary—Indian Affairs.

[FR Doc. 2024-04067 Filed 2-27-24; 8:45 am]

BILLING CODE 4337-15-P